DEPARTMENT OF THE INTERIOR

Fish and Wildlife Service

50 CFR Part 17

Endangered and Threatened Wildlife and Plants; Review of Plant and Animal Species That Are Candidates or Proposed for Listing as Endangered or Threatened, Annual Notice of Findings on Recycled Petitions, and Annual Description of Progress on Listing Actions

AGENCY: Fish and Wildlife Service, Interior.

ACTION: Notice of review of species which are candidates or proposed for listing, findings on recycled petitions, and progress on listing actions.

SUMMARY: In this notice of review, we, the U.S. Fish and Wildlife Service (Service), present an updated list of plant and animal species native to the United States that we regard as candidates or have proposed for addition to the Lists of Endangered and Threatened Wildlife and Plants under the Endangered Species Act of 1973, as amended. Identification of candidate species can assist environmental planning efforts by providing advance notice of potential listings, allowing resource managers to alleviate threats and thereby possibly remove the need to list species as endangered or threatened. Even if we subsequently list a candidate species, the early notice provided here could result in fewer restrictions on activities by prompting candidate conservation measures to alleviate threats to the species.

We request additional status information that may be available for the identified candidate species and information on species that we should include as candidates in future updates of this list. We will consider this information in preparing listing documents and future revisions to the notice of review. This information will help us in monitoring changes in the status of candidate species and in conserving candidate species.

We announce the availability of listing priority assignment forms for candidate species. These documents describe the status and threats that we evaluated in order to assign a listing priority number to each species. We also announce our findings on recycled petitions and describe our progress in revising the Lists of Endangered and Threatened Wildlife and Plants during the period January 8, 2001, to October 17, 2001.

DATES: We will accept comments on the candidate notice of review at any time.

ADDRESSES: Submit your comments regarding a particular species to the Regional Director of the Region identified in SUPPLEMENTARY INFORMATION as having the lead responsibility for that species. You may submit comments of a more general nature to the Chief, Division of Conservation and Classification, U.S. Fish and Wildlife Service, 4401 N. Fairfax Drive, Room 420, Arlington, VA 22203 (703/358-2171). Written comments and materials received in response to this notice of review will be available for public inspection by appointment at the appropriate Regional Office listed in SUPPLEMENTARY INFORMATION.

Information regarding the range, status, and habitat needs of and listing priority assignment for a particular species is available for review at the appropriate Regional Office listed below in SUPPLEMENTARY INFORMATION, at the Division of Conservation and Classification, Arlington, Virginia (see address above), or on our Web site (http://www.fws.gov).

FOR FURTHER INFORMATION CONTACT: The Endangered Species Coordinator(s) in the appropriate Regional Office(s) or Chris Nolin, Chief, Division of Conservation and Classification (703/358-2171).

SUPPLEMENTARY INFORMATION:

Candidate Notice of Review

Background

The Endangered Species Act of 1973, as amended (16 U.S.C. 1531 et seq.) (Act), requires that we identify species of wildlife and plants that are endangered or threatened, based on the best available scientific and commercial information. Through the Federal rulemaking process, we add these species to the List of Endangered and Threatened Wildlife at 50 CFR 17.11 or the List of Endangered or Threatened Plants at 50 CFR 17.12. As part of this program, we maintain a list of species that we regard as candidates for listing. A candidate is one for which we have on file sufficient information on biological vulnerability and threats to support a proposal to list as endangered or threatened but for which preparation and publication of a proposal is precluded by higher-priority listing actions. We maintain this list for a variety of reasons, including: to notify the public that these species are facing threat to their survival; to provide advance knowledge of potential listings that could affect decisions of environmental planners and developers; to solicit input from interested parties to identify those candidate species that may not require protection under the Act or additional species that may require the Act's protections; and to solicit information needed to prioritize the order in which we will propose species for listing.

Table 1 of this notice includes 252 species that we regard as candidates for addition to the Lists of Endangered and Threatened Wildlife and Plants (Lists), as well as 35 species for which we have published proposed rules to list as threatened or endangered species, most of which we identified as candidates in the October 25, 1999, Candidate Notice of Review (64 FR 57534). We encourage consideration of these species in environmental planning, such as in environmental impact analysis under the National Environmental Policy Act of 1969 (implemented at 40 CFR parts 1500-1508) and in local and statewide land use planning. Table 2 of this notice contains 74 species we identified as candidates or as proposed species in the October 25, 1999, Candidate Notice of Review that we now no longer consider candidates. This includes 21 species that we removed from candidate status (including 8 species we are removing from candidate status through this notice) and 53 species we listed as threatened or endangered since October 25, 1999. The Regional Offices identified as having lead responsibility for the particular species will continually revise and update the information on candidate species. We intend to publish an updated combined notice of review for animals and plants, that will include our findings on recycled petitions and a description of our progress on listing actions, annually in the Federal Register.

Previous Notices of Review

The Act directed the Secretary of the Smithsonian Institution to prepare a report on endangered and threatened plant species, which was published as House Document No. 94-51. We published a notice in the Federal Register on July 1, 1975 (40 FR 27823), in which we announced that we would review more than 3,000 native plant species named in the Smithsonian's report and other species added by the 1975 notice for possible addition to the List of Endangered and Threatened Plants. A new comprehensive notice of review for native plants, which took into account the earlier Smithsonian report and other accumulated information, superseded the 1975 notice on December 15, 1980 (45 FR 82479). On November 28, 1983 (48 FR 53640), a supplemental plant notice of review noted changes in the status of various species. We published complete updates of the plant notice on September 27, 1985 (50 FR 39526), February 21, 1990 (55 FR 6184), September 30, 1993 (58 FR 51144), and, as part of combined animal and plant notices, on February 28, 1996 (61 FR 7596), September 19, 1997 (62 FR 49398), and October 25, 1999 (64 FR 57534). On January 8, 2001 (66 FR 1295), we published our recycled petition finding for one plant species that had outstanding warranted but precluded findings.

Previous animal notices of review included a number of the animal species in the accompanying Table 1. We published earlier comprehensive reviews for vertebrate animals in the Federal Register on December 30, 1982 (47 FR 58454), and on September 18, 1985 (50 FR 37958). We published an initial comprehensive review for invertebrate animals on May 22, 1984 (49 FR 21664). We published a combined animal notice of review on January 6, 1989 (54 FR 554), and with minor corrections on August 10, 1989 (54 FR 32833). We again published comprehensive animal notices on November 21, 1991 (56 FR 58804), November 15, 1994 (59 FR 58982), and, as part of combined animal and plant notices, on February 28, 1996 (61 FR 7596), September 19, 1997 (62 FR 49398), and October 25, 1999 (64 FR 57534). On January 8, 2001 (66 FR 1295), we published our recycled petition findings for 25 animal species that had outstanding warranted but precluded findings as well as notice of 1 candidate removal. This revised notice supersedes all previous animal, plant, and combined notices of review.

Current Notice of Review

We gather data on plants and animals native to the United States that appear to merit consideration for addition to the Lists of Endangered and Threatened Wildlife and Plants. This notice identifies those species (including, by definition, biological species; subspecies of fish, wildlife, or plants; and distinct population segments (DPS) of vertebrate animals) that we currently regard as candidates for addition to the Lists. In issuing this compilation, we rely on information from status surveys conducted for candidate assessment and on information from State Natural Heritage Programs, other State and Federal agencies (such as the Forest Service and the Bureau of Land Management), knowledgeable scientists, public and private natural resource interests, and comments received in response to previous notices of review.

Tables 1 and 2 are arranged alphabetically by names of genera, species, and relevant subspecies and varieties under the major group headings for animals first, then plants. Animals are grouped by class or order. Plants are subdivided into three groups: flowering plants, conifers and cycads, and ferns and their allies. Useful synonyms and subgeneric scientific names appear in parentheses (the synonyms preceded by an equals sign). Several species that have not yet been formally described in the scientific literature are included; such species are identified by a generic or specific name (in italics) followed by “sp.” or “ssp.” We incorporate standardized common names in these notices as they become available. We sorted plants by scientific name due to the inconsistencies in common names, the inclusion of vernacular and composite subspecific names, and the fact that many plants still lack a standardized name.

Table 1 lists all species that we regard as candidates for listing and all species proposed for listing under the Act. Candidate species are those species for which we have on file sufficient information on biological vulnerability and threats to support issuance of a proposed rule to list, but issuance of the proposed rule is precluded by other higher priority listing actions. We emphasize that we are not proposing these candidate species for listing by this notice, but we anticipate developing and publishing proposed listing rules for these species in the future. We encourage State agencies, other Federal agencies, and other parties to give consideration to these species in environmental planning. Proposed species are those species for which we have published a proposed rule to list as endangered or threatened in the Federal Register (exclusive of species for which we have withdrawn or finalized the proposed rule).

Species in Table 1 of this notice are assigned to several status categories, noted in the “Category” column at the left side of the table. We explain the codes for the category status column of species in Table 1 below:

PE—Species proposed for listing as endangered.

PT—Species proposed for listing as threatened.

C—Candidates: Species for which we have on file sufficient information on biological vulnerability and threats to support proposals to list them as endangered or threatened. Issuance of proposed rules for these species is precluded at present by other higher priority listing actions. This category includes species for which we made a “warranted but precluded” 12-month finding on a petition to list. We made new findings on all petitions for which we previously made “warranted but precluded” findings. We identify the species for which we made a continued “warranted but precluded” finding on a recycled petition by the code “C*” in the category column (see Findings on Recycled Petitions section for additional information). We anticipate developing and publishing proposed rules for candidate species in the future. We encourage State and other Federal agencies as well as other parties to give consideration to these species in environmental planning.

The column labeled “Priority” indicates the listing priority number for each candidate species that we use to determine the most appropriate use of our available resources. We assign this number based on the immediacy and magnitude of threats as well as on taxonomic status. We published a complete description of our listing priority system in the Federal Register on September 21, 1983 (48 FR 43098).

The third column identifies the Regional Office to which you should direct comments or questions (see ADDRESSES section). We provided the comments received in response to the 1999 notice of review to the Region having lead responsibility for each candidate species mentioned in the comment. We will likewise consider all information provided in response to this notice of review in deciding whether to propose species for listing and when to undertake necessary listing actions. Comments received will become part of the administrative record for the species.

Following the common name (fourth column) is the scientific name (fifth column) and the family designation (sixth column). The seventh column provides the known historical range for the species or vertebrate population, indicated by postal code abbreviations for States and U.S. territories (many species no longer occur in all of the areas listed).

Species in Table 2 of this notice are species we included either as proposed species or as candidates in the 1999 notice of review but have since removed from such status for a variety of reasons. We added many of the species identified as proposed in the last notice of review to the Lists of Endangered and Threatened Wildlife and Plants. Table 2 also includes species that became candidates or were proposed for listing since the 1999 notice of review and are no longer classified as either candidates or proposed species (for example candidates or proposed species that we listed or withdrew since the 1999 notice of review). The first column indicates the present status of the species, using the following codes:

E—Species we listed as endangered.

T—Species we listed as threatened.

Rc—Species we removed from the candidate list because currently available information does not support issuance of a proposed listing.

Rp—Species we removed from the candidate list because we have withdrawn the proposed listing.

The second column provides a coded explanation of why we no longer regard the species as a candidate or proposed species. Descriptions of the codes are as follows:

A—Species that are more abundant or widespread than previously believed and species that are not subject to the degree of threats sufficient to warrant continuance of candidate status, issuance of a proposed listing, or a final listing. The reduction in threats could be due, in part, or all, to actions taken under a conservation agreement.

F—Species whose range is no longer a U.S. Territory.

I—Species for which we have insufficient information on biological vulnerability and threats to support issuance of a proposed rule to list.

L—Species we added to the Lists of Endangered or Threatened Wildlife and Plants.

M—Species we mistakenly included as candidates or proposed species in the last notice of review.

N—Species that are not a listable entity (do not meet the Act's definition of “species”) based on current taxonomic understanding.

X—Species we believe to be extinct.

The columns describing lead region, scientific name, family, common name, and historic range include information as previously described for Table 1.

Summary

Since publication of the 1999 notice of review, we reviewed the available information on candidate species to ensure that issuance of a proposed listing is justified for each species and to reevaluate the relative listing priority assignment of each species. We undertook this effort to ensure we focus conservation efforts on those species at greatest risk. As of October 17, 2001, 9 plants and 19 animals are proposed for endangered status; 2 plants and 5 animals are proposed for threatened status; and 139 plant and 113 animal candidates are awaiting preparation of proposed rules (see Table 1). Table 2 includes 74 species that we classified as either proposed for listing or candidates that we no longer classify in those categories.

Summary of New Candidates

Below we present brief summaries of new candidates. Complete information, including references, are found in the candidate forms. You may obtain a copy of these forms from the Regional office that has the lead for the species or from our Website (http://endangered.fws.gov).

Mammals

Island fox (Urocyon littoralis catalinae, U. l. santacruzae, U. l. littoralis, and U. l. santarosae)—The Santa Catalina Island fox, Santa Cruz Island fox, San Miguel Island fox, and Santa Rosa Island fox numbers have declined drastically in the last 4 years. Total island fox numbers have fallen from approximately 6,000 individuals to less than 2,000 in the last 4 years. Island fox populations on San Miguel and Santa Cruz islands declined by an estimated 80 to 90 percent, and, based on studies conducted as recently as 1999, the island fox has a 50 percent chance of extinction over the next 5 to 10 years. Long-term island fox population monitoring has not been undertaken on Santa Rosa Island; however, anecdotal observations and limited trapping efforts strongly suggest that a similar decline has occurred for this population as well. The primary causes of the decline of these island fox subspecies are the degradation of habitat by introduced herbivores, the increased predation by golden eagles, the rapid transmission of canine distemper through the Santa Catalina subspecies, and the lack of regulation to address the threats. Based on imminent threats of a high magnitude, we assigned these island fox subspecies a listing priority number of 3.

Mazama pocket gopher (Thomomys mazama—all subspecies)—The Mazama pocket gopher is strongly associated with glacial outwash prairies in western Washington. The prairie of South Puget Sound is one of the rarest habitats in the United States. We assessed the current distribution of the Mazama pocket gopher and found that many of the historic populations have disappeared or diminished substantially enough in size that their presence was not obvious. Because the remaining populations tend to be small and isolated and the pocket gophers have a limited ability to disperse, further isolation could cause their eventual extinction. Threats include urbanization, loss of basic ecological processes such as fire, nonnative vegetation, domestic cat predation, and lack of regulation to protect the habitat. Because these threats are high but non-imminent, we assigned a listing priority number of 6 to this subspecies.

Southern Idaho ground squirrel (Spermophilus brunneus endemicus)—During the past 30 years, a dramatic population decline of the southern Idaho ground squirrel has occurred. We now believe that the southern Idaho ground squirrel occupies approximately 44 percent of its historical range. Surveys indicate a precipitous decline in squirrel population since the mid-1980s. A 1999 survey of 145 of the 180 known historical population sites indicated that only 53 sites (37 percent) were still occupied. Furthermore, 52 of the 53 occupied sites had what biologists characterized as “remarkably low levels of activity”. Scientists attribute the decline to the following factors: invasive nonnative plants associated with a change in fire frequency, and lack of reclamation or restoration of habitat by various land management agencies and private landowners; and an increase in the risk of extinction due to a reduced distribution. Based on our evaluation that these threats pose an imminent risk of a high magnitude, this subspecies warrants a listing priority number of 3.

Birds

Yellow-billed cuckoo, western continental U.S. DPS (Coccyzus americanus)—While the cuckoo is still relatively common east of the crest of the Rocky Mountains, biologists estimate that more than 90 percent of the bird's riparian (streamside) habitat in the West has been lost or degraded. These modifications, and the resulting decline in the distribution and abundance of yellow-billed cuckoos throughout the western states, is believed to be due to conversion to agriculture; grazing; competition from nonnative plants, such as tamarisk; river management, including altered flow and sediment regime; and flood control practices, such as channelization and bank protection. Based on non-imminent threats of a high magnitude, we assigned a listing priority number of 6 to this DPS of yellow-billed cuckoo.

Streaked horned lark (Eremophila alpestris strigata)—The streaked horned lark is considered rare. Currently, we estimate that fewer than 200 breeding pairs remain in Oregon. In Washington, it has been extirpated from north Puget Sound and the San Juan Islands, and less than 100 pairs remain in south Puget Sound and along the coast. The greatest threat to the streaked horned lark is loss of habitat. Biologists estimate that less than 1 percent of native grassland and savanna remains. Conversion of grassland to other uses, such as agriculture and homes, and the encroachment of nonnative plants have been the primary factors contributing to the species' decline. Because these threats are of a high magnitude but are non-imminent, we assigned a listing priority number of 6 to this subspecies.

Western sage grouse, Washington DPS (Centrocercus urophasianus phaios)—The Washington DPS (Columbia basin) of the western sage grouse currently occupies approximately 10 percent of its historic distribution in the state in two relatively small areas in central Washington. The abundance of this DPS has declined between 66 percent and 99 percent from historic levels (using low and high estimates). Primary threats to this population include conversion or degradation of native shrub-steppe habitats and small population size, which makes this population more susceptible to inbreeding depression (reduced reproductive vigor) and extirpation from stochastic events (inclement weather, population demographics, altered predation patterns, etc.). Because these threats are low to moderate in magnitude but imminent, we assigned this DPS of western sage grouse a listing priority number of 9.

Reptiles

Sand dune lizard (Sceloporus arenicolus)—The sand dune lizard is endemic to a small area in New Mexico and Texas. The primary threats to this species are herbicides used to remove shinnery oak, various activities that destroy and fragment shinnery oak habitat, and overcollection. Currently no Federal or State regulations in New Mexico or Texas protect against take of individuals or their habitat. Due to imminent threats of a high magnitude, we assigned a listing priority number of 2 to this species.

Amphibians

Georgetown salamander (Eurycea naufragia)—The Georgetown salamander is an entirely aquatic salamander approximately 5.1 centimeters (cm) (2.0 inches (in)) long. It is known to occur in springs along five tributaries of the San Gabriel River and one cave in the city of Georgetown, Texas. Primary threats include degradation of water quality and reduced available water quantity due to urbanization. Currently no State or Federal regulations provide protection for this salamander. Due to imminent threats of a high magnitude, we assigned a listing priority number of 2 to this species.

Ozark hellbender (Cryptobranchus alleganiensis bishopi)—The Ozark hellbender is a large, aquatic salamander native to streams of the Ozark Plateau in Arkansas and Missouri. Records indicate that much of the habitat for the species has been lost or fragmented due to habitat alteration from gravel mining, construction of impoundments, timber harvest and associated erosion, and contamination from pesticides and historic lead and zinc mining. Currently, State regulations make it illegal to take the Ozark Hellbender, but little or no regulation protects the habitat. As a result, most known populations have experienced significant declines and there is little documentation of reproduction. We believe that the current combination of population fragmentation and habitat degradation may prohibit this species from recovering without the intervention of protection and conservation measures afforded under the Act. Due to non-imminent threats of a high magnitude, we assigned a listing priority number of 6 to this subspecies.

Fish

Yellowcheek darter (Etheostoma moorei)—The yellowcheek darter is an endemic species of the Little Red River in Arkansas. Construction of Greers Ferry Lake destroyed most of the species' preferred habitat and isolated the species in four tributaries. Factors affecting the remaining populations include loss of suitable breeding habitat, habitat degradation, population isolation, and severe population declines. Recent studies have documented significant declines in the numbers of this fish in the remaining populations. Due to imminent threats of a high magnitude, we assigned a listing priority number of 2 to this species.

Zuni bluehead sucker (Catostomus discobolus yarrowi)—The Zuni bluehead sucker is a 20.3-cm (8.0-in) freshwater fish found only in Arizona and New Mexico. The primary threats to this subspecies are road construction, logging, over-grazing, reservoir construction, irrigation withdrawals, and stocking of exotic fishes. Once common in the Little Colorado and Zuni River drainages, it is now thought to be reduced to about 10 percent of historical range. Although considered endangered by the State of New Mexico and a species of special concern by the State of Arizona and the U.S. Forest Service, these designations lack habitat protections needed for long-term conservation. Due to imminent threats of a high magnitude, we assigned a listing priority number of 3 to this subspecies.

Clams

Neosho mucket (Lampsilis rafinesqueana)—The Neosho mucket is a freshwater mussel native to Arkansas, Kansas, Missouri, and Oklahoma. The species has declined throughout much of its historic range due to habitat degradation attributed to impoundments, sedimentation, and agricultural pollutants. Currently, it is believed that only one viable population exists; a few remnant populations may remain. Although State regulations limit harvest of this species, there is little protection for habitat. Due to non-imminent threats of a high magnitude, we assigned a listing priority number of 5 to this species.

Texas hornshell (Popenaias popei)—The Texas hornshell is a freshwater mussel that is found in New Mexico, Texas, and Mexico. The primary threats are habitat alterations such as impoundments and diversions for agriculture and flood control, contamination of water from the oil and gas industry, and increased sedimentation from prolonged overgrazing and loss of native vegetation. Currently, no Federal or State regulations protect the Texas hornshell from these threats. Due to imminent threats of a high magnitude, we assigned a listing priority number of 2 to this species.

Snails

Phantom Cave snail (Cochliopa texana) and Phantom springsnail (Tryonia cheatumi)—Both of these aquatic snails occur in only three spring systems and associated outflows in Texas. The primary threat to both species is the loss of surface flows due to declining groundwater levels from drought and pumping for agricultural production. Although the land surrounding their habitat is owned and managed by The Nature Conservancy, Bureau of Reclamation, and Balmorhea State Park, the water needed to maintain their habitat has declined due to a reduction in the spring flows, primarily as result of private groundwater pumping in areas beyond that controlled by these landowners. Currently, there is no protection for either of these aquatic cave snails by either State or Federal law. Due to imminent threats of a high magnitude, we assigned a listing priority number of 2 to these species.

Insects

Nine cave beetles (Pseudanophthalmus caecus, P. cataryctos, P. frigidus, P. inexpectatus, P. inquistor, P. major, P. pholeter, P. parvus, and P. troglodytes)—Seven of these nine cave beetles (Pseudanophthalmus caecus, P. cataryctos, P. frigidus, P. major, P. pholeter, P. parvus, and P. troglodytes) are currently known to occur in one cave each in Kentucky. Psuedanophthalmus inexpectatus, is known to occur in more than one cave in Kentucky and P. inquistor only occurs in Tennessee. Historically, P. inexpectatus occurred in three caves; however, it is now considered extirpated from one of these caves and is declining in numbers in one of the remaining two sites. The primary threats to these cave beetles include toxic chemical spills, discharges of large amounts of polluted water, closure or alterations of cave entrances, and disruption of cave energy processes by industrial, residential, commercial, or highway construction. There is currently little or no protection for these species by either the State or Federal regulations. Due to non-imminent threats of a high magnitude, we assigned a listing priority number of 5 to these species.

Whulge checkerspot butterfly (Euphydryas editha taylori)—Historically, the subspecies was known from more than 50 locations in British Columbia, Washington, and Oregon. The current range is believed to have declined significantly to less than 15 populations. Threats include changes in vegetation structure and composition of native grassland-dominated prairies due to agricultural conversion, urbanization, and invasion by nonnative woody shrubs; the use of pesticides to control Asian gypsy moths; and inadequacy of regulatory protection against these threats. We have determined that, although the threats are of high magnitude, they are non-imminent; therefore, we are assigning a listing priority number of 6 to this subspecies.

Ferns and Allies

Botrychium lineare (slender moonwort)—Botrychium lineare is a small perennial fern that is currently known from a total of nine populations in Colorado, Oregon, Montana, and Washington. In addition to these currently known populations, there are four historic population sites in California, Colorado, Idaho, and Montana and two in Canada. These historic populations have not been seen for at least 20 years and may be extirpated. Identifiable threats to various populations of this species include road maintenance, herbicide spraying, recreation, timber harvest, trampling and grazing by wildlife and livestock, exotic species, and development. Because we concluded that the overall magnitude of threats to Botrychium lineare throughout its range is moderate and the overall immediacy of these threats is non-imminent, we assigned this species a listing priority number of 11.

Summary of Listing Priority Changes in Candidates

Mammals

Coachella Valley round-tailed ground squirrel (Spermophilus tereticaudus chlorus)—In the 1999 CNOR, we mistakenly assigned the Coachella Valley round-tailed squirrel a listing priority number of 5. This was an incorrect number under the listing priority system for a subspecies, like the Coachella Vally round-tailed ground squirrel. In this notice, we have corrected the listing priority number to a 6.

Washington ground squirrel (Spermophilus washingtoni)—Since the designation of the species as a candidate on October 25, 1999, more information has become available regarding the types of soils used by Washington ground squirrels, the effects of agriculture on Washington ground squirrel colonies, the status of the species throughout its range, and the significance of the Oregon population to the species as a whole. The soil types used by the squirrels are distributed sporadically within the species' range, and have been seriously fragmented by human development in the Columbia Basin, particularly conversion to agricultural use. Where agriculture occurs, little evidence of ground squirrel use has been documented, and reports indicate that ongoing agricultural conversion permanently eliminates Washington ground squirrel habitat. The most contiguous, least-disturbed expanse of suitable Washington ground squirrel habitat, and likely the densest distribution of colonies within the range of the species, occurs on the Boeing site and Boardman Bombing Range in Oregon. Substantial threats to the species occur throughout its range, including the remaining populations in Oregon. Even on State-owned lands in Oregon, the loss of known sites is likely. The City of Ione and Morrow County have proposed the construction of a highway through the largest area of suitable and occupied habitat in the range of the species. The loss of significant numbers of colonies in Oregon would be detrimental to the continued existence of the Washington ground squirrel. In Washington, recent declines have been precipitous and for unknown reasons. In 2001, entire colonies of ground squirrels have been lost on the Columbia National Wildlife Refuge and Seeps Lake Management Area near Othello, Washington, despite the protected status of the species in the area. Biologists observed significant declines in body mass, and many adult squirrels experienced a complete failure to reproduce in 2001, likely as a result of starvation. Individuals that lacked sufficient body weight are not likely to survive the seven to eight month hibernation period this species experiences. All of these threats have been observed in the past year, are likely to continue, and appreciably reduce the likelihood of survival of many Washington ground squirrel colonies across the range of the species. Based on this evaluation, we changed the listing priority number from a 5 to a 2 due to the imminent threats of a high magnitude.

Birds

Rota bridled white-eye (Zosterops rotensis)—Recent authorities on the taxonomy of Micronesian white-eyes agree that the Rota population is distinct from others in the Marianas and should be recognized as a separate species. Therefore, we refer to this bird as the Rota bridled white-eye (Z. rotensis). Recent genetic evidence from mitochondrial DNA sequences showed that two distinct lineages occur within the Marianas, one on Guam, Saipan, Tinian, and Aguijan, and the other on Rota. Threats include introduced birds, rats, habitat destruction, alien plants and habitat alteration, and typhoons. Although the relative importance of the threats to the Rota bridled white-eye are not completely understood, based on the large (89%) and rapid decline in population size that has occurred since 1982 and appears to be continuing, these threats must be imminent and of high magnitude. In addition, since we now recognize the Rota bridled white-eye as a separate species, we changed the listing priority from a 6 to a 2. Based, in part, on this change in priority, on October 3, 2001 (66 FR 50383) we published a proposed rule to list this species as endangered.

Clams

Alabama pearlshell (Margaritifera marrianae)—We changed the listing priority number from a 5 to a 2 since the threats are now imminent for this species based on the apparent loss of one of the three known extant populations in 1999 and drought stress to the surviving populations in 2000.

Snails

Diamond Y springsnail (Tryonia adamantina) and Gonzales springsnail (Tryonia circumstriata (= stocktonensis))—We changed the listing priority number from a 5 to a 2 for both of these species due to new imminent threats from the recent introduction of a nonnative snail (Melanoides sp.) into the native snails' habitat. The nonnative snail is likely competing with the native snails for space and resources.

Tumbling Creek cavesnail (Antrobia culveri)—We changed the listing priority number from a 7 to a 1 due to new data obtained in 2000 and 2001 that indicate the threat to this species is much greater than originally estimated. The continued downward trend, including the documentation of no snails in study plots on January 11, 2001, provides a strong indication that whatever threats are causing the decline, they are imminent and of a high magnitude. It is likely that this species, the only known representative of its genus, will become extinct within the foreseeable future without appropriate conservation measures.

Insects

Carson wandering skipper (Pseudocopaeodes eunus obscurus)—We are changing the listing priority number from a 12 to a 3 because threats we previously considered to be ameliorated now appear imminent. A Cooperative Agreement was signed by the Service, Nevada Department of Transportation, Federal Highways Administration, and Bureau of Land Management in October 1999. This agreement was developed to outline the actions necessary for the conservation and management of Carson wandering skipper. A draft conservation plan for the Carson wandering skipper was prepared in 2000 to address potential conservation measures which could be implemented at occupied sites. However, implementation of this agreement and a final conservation plan now appear unlikely in the foreseeable future due to the unwillingness of the private and public landowners to support conservation efforts. We are also concerned about proposed water development plans near the Pyramid Lake site and the spread of whitetop, a nonnative plant species, on private property at the Honey Lake site, as this invasive species could eliminate habitat for the Carson wandering skipper. Since Carson wandering skipper became a candidate species, further evidence supports the likely extirpation of the subspecies from the Carson Hot Springs site. Therefore, based on the high magnitude of imminent threats, we assigned this subspecies a listing priority number of 3. See additional information on this species below under Petition of a Candidate Species section.

Highlands tiger beetle (Cicindela highlandensis)—We changed the listing priority number for the Highlands tiger beetle from a 2 to a 5 because the immediacy of the threats to its scrub habitats on the Lake Wales Ridge in central Florida have decreased. In particular, the State of Florida and conservation groups have acquired and are actively acquiring occupied and unoccupied scrub habitats for the species such that most quality habitats for the species have been acquired. There has also been an increase in prescribed burning on the Lake Wales Ridge that resulted in improved habitat conditions for the species. Therefore, based on a high magnitude of non-imminent threats, we assigned this species a listing priority number of 5.

Salt Creek tiger beetle (Cicindela nevadica lincolniana)—We changed the listing priority number from a 6 to a 3 because the immediacy of the threats to the isolated wetlands where the beetle occurs continues to increase due to the planned widening of the interstate highway, construction of a new interchange, and the anticipated developments that will occur along the highway corridor. In addition, the apparent reduction in U.S. Army Corps of Engineers jurisdiction over isolated wetlands may hamper the State's ability to protect the wetland habitats essential to the beetle's survival since the Nebraska Department of Environmental Quality will not have a nexus to implement review under the State section 401 water quality certification program. Therefore, based on a high magnitude of now imminent threats, we assigned this subspecies a listing priority number of 3.

Arachnids

Warton Cave meshweaver (Cicurina wartoni)—We changed the listing priority number from an 8 to a 2 due to continued, imminent threats of a high magnitude from nearby development and fire ants. In two previous CNORs, we assigned a listing priority number of 2 to this species, but based on the development of a conservation agreement to protect this cave, we changed the listing priority number to an 8 in the 1999 CNOR. Since this conservation agreement is still under development and recommended management actions (including fire ant control and complete fencing) are not yet in place to adequately protect the only known location of the species, we are now assigning a listing priority number of 2 to this species.

Plants

Astragalus tortipes (Milk-vetch, Sleeping Ute)—We changed the listing priority number for Astragalus tortipes from a 2 to an 8 because Spring 2000 surveys indicated an increase in the number of individual plants from the original estimate of 2,000-3,000 individual plants to 3,744 plants, and there has been an increase in range. In addition, we believe the threats, although not entirely eliminated, have been reduced; oil and gas development may occur in the future, but only a few plant locations are on terrain that would be affected. Consequently, A. tortipes should be retained on the candidate list, but with a reduced listing priority, based on reduced threats to a plant with a limited range.

Bidens conjuncta (Kóokóolau)—We changed the listing priority number for Bidens conjuncta from 5 to 8 because the number of individuals has increased from 300 to 2,200 individuals. While the original threats remain imminent and rats are also now known to be a threat, the overall magnitude of the threat is somewhat reduced with the large increase in numbers.

Cyanea calycina (HaHa)—Due to taxonomic changes, Cyanea calycina is now considered a separate species; therefore, we are changing the listing priority number to a 5 (previously we designated it a 6).

Cyanea lanceolata (formerly Cyanea lanceolata ssp. lanceolata, and prior to that Rollandia lanceolata)—Originally treated as a subspecies of C. lanceolata, this entity has been elevated to full species status. As such, we are changing the listing priority number to a 5 (previously we designated it a 6).

Cyclosorus boydiae var. boydiae (formerly Thelypteris boydiae)—This plant species has been moved from the genus Thelypteris to the genus Cyclosorus, and is also now considered a subspecies. As a result, we changed the listing priority number to a 6 (previously we designated it a 5).

Cyclosorus boydiae var. kipahuluensis (formerly Thelypteris boydiae)—This plant species has been moved from the genus Thelypteris to the genus Cyclosorus, and is also now considered a subspecies. As a result, we changed the listing priority to 6 (previously it was designated 5).

Erigeron basalticus (Basalt daisy)—Erigeron basalticus is of extremely limited distribution, and is found only in a very narrow habitat type. Although several smaller subpopulations of the species have declined precipitously in the past decade, the major portion of the population appears to have remained stable during this same period. Currently, the cause of the decline is unknown, as is the risk to the larger subpopulations. While we identified various potential threats to the species, these threats do not appear to be imminent and are of a moderate to low magnitude. Therefore, we are assigning this plant species a listing priority of 11 (previously we assigned the species a listing priority of 8).

Leavenworthia texana (Texas golden gladecress)—We changed the listing priority number from a 5 to a 2 based on recent survey information that shows the known sites are now restricted to two. A third site is currently closed to visitors, and its status is unknown. Of the two known sites, a significant reduction in the number of plants has occurred, probably due to the extreme drought in the area.

Pleomele forbesii (Hala pepe)—Additional surveys have increased the known number of individuals in the 16 populations from 80-180 to 500. Based on this new information, we now believe the threat is non-imminent. Because of this, we are changing the listing priority number from a 2 to a 5.

Schiedea pubescens (formerly Schiedea pubescens var. pubescens)—Schiedea pubescens was originally treated as a subspecies. Recently, however, it has been elevated to full species status. Therefore, we changed the priority number from a 3 to a 2.

Solanum nelsonii (Popolo)—There has been a rapid decline of the populations of Solanum nelsonii on the islands within the remote Hawaiian Islands National Wildlife Refuge. The number of individuals has decreased from 3,000 to 300 individuals. Therefore, we changed the priority number from an 11 to a 5.

Candidate Removals

Snails

Wet Canyon talussnail (Sonorella macrophallus)—We removed this species from candidate status since the greatest threat to the species, impact from recreation, was eliminated through a 1999 Conservation Agreement with the Coronado National Forest, Arizona. The National Forest closed a trail that traversed the species’ habitat and prohibits campfires in the Wet Canyon picnic area during periods of fire closure. National Forest staff are also implementing a monitoring program to ensure the trail closure remains in place and to evaluate its effectiveness.

Plants

Cyanea pseudofauriei (Haha)—Originally thought to be a newly discovered species, known from one population totaling a few hundred individuals, this population is now considered part of a more widespread species (Cyanea fauriei) that is considered relatively stable.

Melicope macropus (Alani)—This now extinct species was thought to be rediscovered in 1990. However, this “rediscovered” population is now known to be misidentified and is actually Melicope kauaiensis, which is a more common species.

Opuntia whipplei var. multigeniculata (Blue diamond cholla)—Active management of lands supporting the blue diamond cholla and its habitat and the execution of the conservation agreement has led to our decision to remove the species from the candidate list. This agreement includes conservation actions that specifically address and diminish or eliminate threats to the species. Therefore, we are removing this species from the candidate list.

Phyllostegia helleri (no common name)—This population was originally thought to be Phyllostegia helleri, but was actually a misidentification of Phyllostegia electra. Phyllostegia helleri has not been seen since 1916, and therefore, we believe it to be extinct.

Phyllostegia imminuta (no common name)—Historically known from Maui and Lanai and thought to be extinct since 1920, this species was thought to be rediscovered in 1 population totaling approximately 10 individuals in Waikamoi, Maui. However, further study revealed that the plants were misidentified and are actually Phyllostegia macrophylla. Therefore, we believe this species to be extinct.

Cyperus odoratus (formally Torulinium odoratum ssp. auriculatum) (pu‘uka‘a (= kili‘o‘opu, kiolohia, mau‘u pu‘u, puko‘a))—This subspecies is no longer recognized, and the species has been incorporated into the more widespread species Cyperus odoratus.

Lysimachia venosa (no common name)—The historic range of this species was throughout the island of Kauai. While there are no historic records of numbers of populations or individuals, qualitative accounts indicate that the species was relatively widespread and abundant on Kauai. The last known population of only a few individuals could not be relocated in 1999. Therefore, we believe this species to be extinct.

Petition for a Candidate Species

The Act provides two mechanisms for considering species for listing. First, the Act requires us to identify and propose for listing those species that require listing under the standards of section 4(a)(1). We implement this through the candidate program, discussed above. Second, the Act provides a mechanism for the public to petition us to add a species to the Lists. Under section 4(b)(3)(A), when we receive such a petition, we must determine within 90 days, to the maximum extent practicable, whether the petition presents substantial information that listing is warranted (a “90-day finding”). If we make a positive 90-day finding, under section 4(b)(3)(B) we must make one of three possible findings within 12 months of the receipt of the petition (a “12-month finding”).

The first possible 12-month finding is that listing is not warranted, in which case we need take no further action on the petition. Second, we may find that listing is warranted, in which case we must promptly publish a proposed rule to list the species. Once we publish a proposed rule for a species, section 4(b)(5) and (6) govern further procedures, regardless of whether or not we issued the proposal in response to a petition. Third, we may find that listing is “warranted but precluded.” Such a finding means that immediate publication of a proposed rule to list the species is precluded by higher priority listing proposals, and that we are making expeditious progress to add and remove species from the Lists, as appropriate.

The standard for making a 12-month warranted but precluded finding on a petition to list a species is identical to our standard for making a species a candidate for listing. Therefore, we add all petitioned species subject to such a finding to the candidate list. Similarly, we can treat all candidates as having been subject to both a positive 90-day finding and a warranted but precluded 12-month finding. This notice constitutes publication of such findings pursuant to section 4(b)(3) for each candidate species listed in Table 1 that is the subject of a subsequent petition to list as threatened or endangered. Under our Petition Management Guidance, made available on July 9, 1996 (61 FR 36075), we consider a petition to list a species already on the candidate list to be a second petition and, therefore, redundant. We do not interpret the petition provisions of the Act to require us to make a duplicative finding. Therefore, we are not making additional 90-day findings or initial 12-month findings on petitions to list species that are already candidates.

Pursuant to section 4(b)(3)(C)(i) of the Act, when, in response to a petition, we find that listing a species is warranted but precluded, we must make a new 12-month finding each year until we publish a proposed rule or make a determination that listing is not warranted. These subsequent 12-month findings are referred to as recycled petition findings. As discussed below, we will make recycled petition findings for petitions on such species via our Candidate Notices of Review such as this one.

On June 20, 2001, the United States Court of Appeals for the Ninth Circuit held that the 1999 CNOR (64 FR 57534 (Oct. 25, 1999)) did not constitute valid warranted but precluded 12-month petition findings for the Gila chub and Chiracahua leopard frog. Center for Biological Diversity v. Norton, 2001 U.S. App. LEXIS 13736 (9th Cir. 2001). In particular, the Court found that inclusion of these species as one line each on the table of candidates in the 1999 CNOR, with no further explanation, did not satisfy the section 4(b)(3)(B)(iii)’s requirement that the Service publish “a description and evaluation of reasons and data on which the finding was based” in the Federal Register. The Court found that this one-line statement of candidate status also precluded meaningful judicial review. Moreover, the Court found that candidate status did not guarantee that annual reviews of warranted but precluded petitioned species would take place pursuant to section 4(b)(3)(C)(i). Finally, the Court suggested, but did not decide, that the 1999 CNOR met the Act's requirements for positive 90-day petition findings.

Although we do not agree with the conclusions of the Ninth Circuit, we have revised this CNOR to address the Court's concerns. We have included below a description of why the listing of every petitioned candidate species is both warranted and precluded at this time. Pursuant to section 4(b)(3)(C)(ii), any party with standing may challenge the merits of one of the our petition findings incorporated in this CNOR. The analysis included herein, together with the administrative record for the decision at issue, will provide an adequate basis for a court to review the petition finding. Finally, nothing in this document or any of our policies should be construed as in any way modifying the Act's requirement that we make a new 12-month petition finding for each petitioned candidate within one year of the date of publication of this CNOR. If we fail to make any such finding on a timely basis, whether through publication of a new CNOR or some other form of notice, we may be subject to a deadline law suit pursuant to section 11(g)(1)(C), as it would be with respect to any other failure to comply with a section 4 deadline.

We reviewed the current status of and threats to the 37 species regarding which we have found petitioned action to be warranted but precluded. As a result of this review, we made continued warranted but precluded findings on the petitions for all 37 species. For the 32 of these species that are candidates, we maintain them as candidates and identify them by the code “C*” in the category column on the left side of Table 1. As discussed above, this finding means that the immediate publication of a proposed rule to list these species is precluded by the following higher priority listing actions: Court ordered or settlement agreements to complete the critical habitat determinations for San Bernardino kangaroo rat, Monterey and robust spineflowers, Quino checkerspot butterfly, 57 Hawaii Island plants, Otay tarplant, Oahu elepaio, Blackburn sphinx moth, Newcomb's snail, 2 Kauai invertebrates, 81 Kauai and Niihau plants, yellow and Baker's larkspurs, 3 Southern California coastal plants, Keck's checkermallow, purple amole, 69 Maui and Kahoolawe plants, Santa Cruz tarplant, 37 Lanai plants, 49 Molokai plants, 6 Northwestern Hawaiian Islands plants, 101 Oahu plants, 4 fairy shrimp, Carolina heelsplitter and Appalachian elktoe, and a final determination for the Sacramento splittail. In addition, the following are higher priority statutory deadlines: final listing for Mississippi gopher frog, golden sedge, mountain plover, and desert yellowhead.

In addition to identifying these species in Table 1, we also present brief summaries of why these candidates warrant listing. More complete information, including references, are found in the candidate forms. You may obtain a copy of these forms from the Regional office that has the lead for the species or from the Fish and Wildlife Service's Web site: http://endangered.fws.gov/.

We find that the immediate issuance of a proposed rule and timely promulgation of a final rule for each of these actions has for the preceding year been and will over the next year be precluded by higher priority listing actions. During the preceding year, almost all of our limited listing budget has been needed to take various listing actions to comply with court orders and court-approved settlement agreements. For a list of the listing actions taken over the last year, see the discussion of “Expeditious Progress,” below.

Regarding the following year, although we do not yet have a final budget, the majority of that budget will again likely be needed to take listing actions to comply with court orders and court-approved settlement agreements. Currently, we will need to work on or complete the following actions: proposed critical habitat designations—4 fairy shrimp (and 11 plants), 6 plants from Northwestern Hawaiian Islands, reproposal for plants from Kauai and Niihau, reproposal for plants from Maui and Kahoolawe, reproposal for plants from Lanai, reproposal for plants from Molokai, 57 plants from Hawaii, 5 carbonate plants from California, 103 Oahu plants, 6 Guam species (following prudency re-determinations), Keck's checkermallow, yellow and Baker's larkspur, Ventura Marsh milk-vetch, Rio Grande silvery minnow, 4 invertebrates from New Mexico, 9 invertebrates from Bexar County, Texas, Gila chub, Topeka shiner, gulf sturgeon, and Prebles meadow jumping mouse; final critical habitat designations—quino checkerspot butterfly, Monterey spineflower, robust spineflower, Oahu elepaio, San Bernardino kangaroo rat, 3 southern California plants, Kneeland Prairie pennycress, purple amole, Santa Cruz tarplant, Otay tarplant, 81 plants from Kauai and Niihau, 2 Kauai invertebrates, Blackburn's sphinx moth, Newcomb's snail, 4 fairy shrimp (and 11 plants), 69 plants from Maui and Kahoolawe, 37 plants from Lanai, 5 carbonate plants from California, 49 plants from Molokai, 6 plants from northwest Hawaiian Islands, 57 plants from Hawaii, Keck's checkermallow, yellow and Bakers larskspurs, and 101 plants from Oahu, Rio Grande silvery minnow, 9 invertebrates from Bexar County, Texas; Carolina heelsplitter, gulf sturgeon, Appalachian elktoe, and Great Plains breeding population of piping plover; 90-day petition findings—Miami blue butterfly; 12-month petition findings—Big Cypress fox squirrel, and Columbia spotted frog; proposed listing rules—island fox; final listing determinations—flat-tailed horned lizard, showy stickseed, San Diego ambrosia, southern California DPS of mountain yellow-legged frog, coastal cutthroat trout, Chiricahua leopard frog, vermilion darter, Mississippi gopher frog, and golden sedge; emergency listings—pygmy rabbit, Carson's wandering skipper, and Tumbling Creek cavesnail.

Issuance of proposed listing rules for most of the candidates even with the highest listing priority numbers (i.e., 1, 2, or 3) will continue to be precluded next year due to the need to take actions to comply with court orders and court-approved settlement agreements, as well as the need to comply (or end non-compliance) with the unqualified statutory deadlines for making 12-month petition findings and final listing determinations on proposed rules. Currently, in addition to those final determinations required by court orders and settlement agreements, we will also need to work in the next year on final determinations for at least 23 species: Cowhead Lake tui chub, meadowfoam, lomatium, 3 Mariana Islands plants, 12 pomace flies, Mariana fruit bat, Dolly Varden trout, desert yellowhead, and mountain plover. Again, in addition to those 12-month findings required by court orders and settlement agreements, we must make initial 12-month findings for at least 7 species: Yosemite toad, California spotted owl, mountain yellow-legged frog (entire population), Henderson's horkelia, Mt. Ashland lupine, and 2 Puerto Rican plants. If over the next year we can devote any resources to issuing proposed rules for the highest priority candidates without jeopardizing our ability to comply with court orders, court-approved settlement agreements, or unqualified statutory deadlines, we will do so.

Finally, with respect to those candidates with lower priority (i.e., those that have listing priority numbers of 4-12), work on proposed rules for those species is also precluded by the need to issue proposed rules for those species that are higher priorities, particularly those facing high magnitude, imminent threats (i.e., listing priority numbers of 1, 2, or 3). Table 1 lists the listing priority number for each candidate species.

Mammals

Black-tailed prairie dog (Cynomys ludovicianus)—As described in our February 4, 2000, 12-month finding (65 FR 5476), black-tailed prairie dog populations have been significantly reduced and are subject to many persistent threats. We believe that various threats (especially plague and pest control efforts via chemical agents) continue to cause local extirpations that could lead to the species becoming vulnerable in a significant portion of its range. Additionally, the species may have difficulty coping with challenges without the advantage of its historic abundance and wide distribution. Accordingly, the vulnerability of the species to population reductions may be related less to its absolute numbers than to the number of colonies in which it exists, their size, their geospatial relationship, existing barriers to immigration and emigration, and the number and nature of the direct threats to the species. While positive first steps to conserve and manage black-tailed prairie dogs have been made by some States and Tribes, more conservation work will be needed by all States, Tribes, and Federal agencies to sufficiently reduce threats to the species. The overall magnitude and immediacy of threats to this species remain unchanged since the 12-month finding was published with a listing priority number of 8.

Island fox (Urocyon littoralis)—See above summary of new species for discussion on why this species warrants listing. The above summary is based on information contained in our files, including information from the petition received on June 6, 2000. Although work on court-ordered section 4 actions have precluded us from issuing a proposed rule to date, despite the fact this species has a listing priority of 2, we recently entered into a settlement agreement on October 2, 2001, (Center for Biological Diversity, et al. v. Norton, Civ. No. 01-2063 (JR) (D.D.C.)) that will require us to deliver by November 30, 2001, a proposed rule to the Federal Register for publication.

Sea otter, Aleutian Islands DPS (Enhydra lutris kenyoni)—The following summary is based on information contained in our files, including information from the petition received on October 26, 2000. The worldwide population of sea otters in the early 1700s has been estimated at 150,000 to 300,000. Extensive commercial hunting of sea otters in Alaska began following the arrival of Russian explorers in 1741 and continued during the 18th and 19th centuries. By the time sea otters were afforded protection from commercial harvests by international treaty in 1911, the species was nearly extinct throughout its range, and may have numbered only 1,000 to 2,000 individuals. Today three subspecies of sea otter have been identified. The northern sea otter contains two subspecies: Enhydra lutris kenyoni, which occurs from the Aleutian Islands to Oregon, and Enhydra lutris lutris, which occurs in the Kuril Islands, Kamchatka Peninsula, and Commander Islands in Russia. The third subspecies, Enhydra lutris nereis, occurs in California and is known as the southern sea otter. Until recently, southwest Alaska had been considered a stronghold for sea otters. In the mid-1980s, biologists believed that 80% of the world population of sea otters occurred in southwest Alaska. Recent aerial surveys document drastic population declines (up to 90%) have occurred throughout this area during the past 10-15 years. Today as few as 9,000 sea otters may remain in the Aleutian Islands. Potential threats include both natural fluctuations and human activities, which may have caused changes in the Bering Sea ecosystem. Subsistence hunting occurs at very low levels and does not appear to be a factor in the decline. While disease, starvation, and contaminants have not been implicated at this time, additional evaluation of these factors is warranted. The hypothesis that predation by killer whales is causing the sea otter decline should also be further studied. Due to the precipitous and rapid nature of the ongoing population decline, we have assigned the Aleutian Islands DPS of Enhydra lutris kenyoni a listing a priority of 3 under our listing priority system. Additionally, we have no indication that the decline has reached an endpoint, and therefore immediate action is needed.

Sheath-tailed bat, American Samoa and Aguijan DPS (Emballonura semicaudata)—The following summary is based on information contained in our files, including information from the petition received on March 3, 1986. Historically the sheath-tailed bat was known from the southern Mariana Islands, Palau, and Western and American Samoa. Populations on the Mariana Islands of Guam and Rota have been extirpated and the Mariana population on Aguijan has been reduced to approximately 10 individuals. A similar drastic decline has occurred in American Samoa where populations of this bat were estimated at over 10,000 in 1976. In 1993, only four bats were recorded. This species resides in caves and is very susceptible to disturbance. The populations in American Samoa and the Mariana Islands are at the extreme limits of the species' range. Roost sites have been rendered unsuitable for bats by human intrusion into caves and the use of some caves as garbage dumps. Typhoons have also damaged some caves by blocking entrances or by flooding coastal caves. The loss of roost sites has severely restricted population size, especially in American Samoa, where few caves exist. In addition, small populations and limited numbers of populations place this distinct population segment at great risk of extinction from inbreeding, stochastic events, and storms. Based on immediate threats of a high magnitude, we assigned the American Samoa and Aguijan DPS of the sheath-tailed bat a listing priority number of 3.

Southern Idaho ground Squirrel (Spermophilus brunneus endemicus)—See above summary of listing priority changes for discussion on why this species warrants listing. The above summary is based on information contained in our files, including information from the petition received on January 29, 2001.

Washington ground squirrel (Spermophilus washingtoni)—See above summary of new species for discussion on why this species warrants listing. The above summary is based on information contained in our files, including information from the petition received on March 2, 2000.

Birds

Band-rumped storm-petrel, Hawaii DPS (Oceanodroma castro)—The following summary is based on information contained in our files, including information from the petition received on May 8, 1989. Breeding season surveys on Hawaii, Maui, and Kauai, as well as reports of fledglings picked up on Hawaii and Kauai, confirm that small populations still exist on these Hawaiian islands. Estimates of the total State-wide population could exceed 100 pairs if viable breeding populations exist on Maui and Hawaii. Although small populations do occur on Maui and Hawaii, we have been unable to determine if they are viable; certainly they are not large and they represent a fraction of pre-historic distribution. Predation by introduced species is believed to have played a significant role in reducing storm-petrel numbers and in exterminating colonies in the Pacific and other locations worldwide. Additionally, artificial lights have had a significant negative effect on fledgling young and, to a lesser degree, adults. Artificial lighting of roadways, resorts, ballparks, residences, and other development in lower elevation areas attracts and confuses night-flying, storm-petrel fledglings, resulting in “fall-out” and collisions with buildings and other objects. Currently, the species is not known to be taken or used for commercial, recreational, scientific, or educational purposes. During surveys on Mauna Loa, Hawaii, in 1992, several caches of Hawaiian dark-rumped petrel carcasses associated with feral cat predation were recorded in areas where band-rumped storm-petrel vocalizations were recorded. Based on imminent threats of a high magnitude, we assigned this Hawaii DPS of the band-rumped storm-petrel a listing priority number of 3.

Gunnison sage grouse (Centrocercus minimus)—The following summary is based on information contained in our files, including information from the petition received on January 25, 2000. The range of the Gunnison sage grouse has been reduced to less than 25 percent of its historic range. Size of the range and quality of its habitat have been reduced by direct habitat loss, fragmentation, and degradation from building development, road and utility corridors, fences, energy development, conversion of native habitat to hay or other crop fields, alteration or destruction of wetland and riparian areas, inappropriate livestock management, competition for winter range by big game, and creation of large reservoirs. Other factors affecting the Gunnison sage grouse include fire suppression, overgrazing by elk (Cervus elaphus) and deer (Odocoileus hemionus), drought, disturbance or death by off-highway vehicles, harassment from people and pets, noise that impairs acoustical quality of leks, genetic depression, pesticides, pollution, and competition for habitat from other species. For greater detail as to why listing is warranted, see 65 FR 82310. We consider all of these threats to be of high magnitude but non-imminent; therefore, we assigned the Gunnison sage grouse a listing priority of 5.

Lesser prairie-chicken (Tympanuchus pallidicinctus)—The following summary is based on information contained in our files, including information from the petition received on October 5, 1995. Biologists estimate that the occupied range has declined at least 78% since 1963 and 92% since the 1800s. The most serious threats to the lesser prairie-chicken are loss of habitat from conversion of native rangelands to introduced forages and cultivation, and cumulative habitat degradation caused by severe grazing, fire suppression, herbicides, and structural developments. Many of these threats may exacerbate the normal effects of periodic drought on lesser prairie-chicken populations. In many cases, the remaining suitable habitat has become fragmented by the spatial arrangement of properties affected by these individual threats. We view current and continued habitat fragmentation to be a serious ongoing threat that facilitates the extinction process through several mechanisms: remaining habitat patches may become smaller than necessary to meet the yearlong requirements of individuals and populations; necessary habitat heterogeneity may be lost to large areas of monoculture vegetation and/or homogenous habitat structure; areas between habitat patches may harbor high levels of predators or brood parasites; and the probability of recolonization decreases as the distance between suitable habitat patches expands. Inadequacy of existing regulatory mechanisms to protect lesser prairie-chicken habitat was cited as a potential threat to the species in the Service's 12-month finding. Most occupied lesser prairie-chicken habitat throughout its current range occurs on private land, where States continue to have little authority to protect the species or its habitat, with the exception of setting harvest regulations. Although some federal lands within occupied range have voluntarily accommodated some needs of the lesser prairie-chicken, we believe that the prairie-chicken cannot be sufficiently conserved only on Federal lands to prevent extinction. Concern exists that recreational hunting and harassment are also potential threats to the species. While we do not believe that overutilization through recreational hunting is a primary cause of lesser prairie-chicken decline, we are concerned that small and fragmented populations may be vulnerable to local extirpations caused by repeated harvest pressure, especially near leks. Therefore, we suggest conservative harvest limits and careful oversight of harvest pressure on small and fragmented populations. Similarly, the effect of recreational viewing at leks is unknown, although likely to be minimal if disturbance is avoided by observers remaining in vehicles or blinds until birds disperse naturally from the lek, and observations are limited to robust leks in close proximity to other active leks. Based on all currently available information, we find that ongoing threats to the lesser prairie-chicken, as outlined in the 12-month finding, remain unchanged and lesser prairie-chickens continue to warrant federal listing as threatened. We have determined that the overall magnitude of threats to the lesser prairie-chicken throughout its range are moderate, and that the threats are ongoing, thus they are considered imminent. Consequently, a listing priority of 8 remains appropriate for the species. The magnitude of threats to lesser prairie-chickens rest primarily on the quality of existing habitat. At present, all States within occupied range of the lesser prairie-chicken are committing significant resources via personnel, outreach, and habitat improvement incentives to landowners to recover the species. We recognize that measurable increases in populations often come years after certain habitat improvements occur. We believe that barring prolonged drought, the species' status is improving overall and should continue to improve in future years. Therefore, we cannot at this time justify elevating the listing priority of the lesser prairie-chicken based on magnitude of threats. Finally, we maintain that remaining populations are becoming increasingly fragmented, and therefore vulnerable to local extinctions. This is particularly true for isolated populations of lesser prairie-chickens in the Permian Basin/western panhandle of Texas and areas south of highway 380 in southeastern New Mexico. The impending loss of these populations is of major concern to us and efforts to address this are ongoing. However, we believe that, given all currently available information, the net benefits of ongoing conservation activities by the States, Federal agencies, and private groups, combined with the recent increase in both range and numbers in Kansas, exceed the latest negative trends of local populations in the southern periphery of occupied range. However, should the current conservation momentum fail to stabilize and increase existing populations throughout significant portions of the remaining range, we will consider elevating the listing priority of the species.

Yellow-billed cuckoo, western continental U.S. DPS (Coccyzus americanus)—See above summary of new candidate species for discussion on why this DPS of the yellow-billed cuckoo warrants listing. The above summary is based on information contained in our files, including information from the petition received on February 9, 1998. Also see our 12-month finding (66 FR 38611) published on July 25, 2001.

Reptiles

Louisiana pine snake (Pituophis ruthveni)—The following summary is based on information contained in our files, including information from the petition received on July 19, 2000. The Louisiana pine snake historically occurred in portions of west-central Louisiana and extreme east-central Texas. Louisiana pine snakes have not been documented in over a decade in some of the best remaining habitat within their historical range. Surveys and results of Louisiana pine snake trapping and radio-telemetry suggest that extensive population declines and local extirpations have occurred during the last 50 to 80 years. The quality of remaining Louisiana pine snake habitat has been degraded due to logging, fire suppression, short-rotation silviculture, and conversion of habitat to other uses such as grazing. Other factors affecting Louisiana pine snakes include low fecundity (reproductive output), which magnifies other threats and increases the likelihood of local extinctions, and vehicle mortality, which may cause significant impacts to the Louisiana pine snake's population numbers and community structure. Due to non-imminent threats of a high magnitude, we assigned a listing priority number of 5 to this species.

Cagle's map turtle (Graptemys caglei)—The following summary is based on information contained in our files, including information from the petition received on April 26, 1991. Cagle's map turtle occurs in scattered sites in seven counties in Texas on the Guadalupe, San Marcos, and Blanco Rivers. Loss and degradation of riverine habitat from large and/or small impoundments (dams or reservoirs) is the primary threat to Cagle's map turtle. One detrimental effect of impoundment is the loss of riffle and riffle/pool transition areas used by males for foraging. Depending on its size, a dam itself may be a partial or complete barrier to Cagle's map turtle movements and could fragment a population. Construction of smaller impoundments and human activities on the river have likely eliminated or reduced foraging and basking habitats. Cagle's map turtle is also vulnerable to over-collecting and target shooting, and current regulations are inadequate to protect this species. Due to non-imminent threats of a high magnitude, we assigned a listing priority number of 5 to this species.

Amphibians

Columbia spotted frog, Great Basin DPS (Rana luteiventris)—The following summary is based on information contained in our files, including information from the petition received on May 1, 1989. Recent work by researchers in Idaho and Nevada has documented the loss of historically known sites, reduced numbers of individuals within local populations, and declines in the reproduction of those individuals. Since 1996, extensive surveys throughout southern Idaho and eastern Oregon have led to increases in the number of known spotted frog sites. Although efforts to survey for spotted frogs have increased the available information regarding known species locations, most of these sites support only small numbers of frogs. Extensive monitoring at 10 of the 46 occupied sites since 1997 indicates a decline in the number of adult spotted frogs encountered. All known populations in southern Idaho and in eastern Oregon appear to be functionally isolated. Spotted frog habitat degradation and fragmentation is probably a combined result of past and current influences of heavy livestock grazing, spring alterations, agricultural development, urbanization, and mining activities. Based on imminent threats of high magnitude, we assigned a listing priority number of 3 to this DPS of the Columbia spotted frog.

Oregon spotted frog, West Coast DPS (Rana pretiosa)—The following summary is based on information contained in our files, including information from the petition received on May 4, 1989. Based on surveys of historic sites, this DPS of the Oregon spotted frog is now absent from at least 76 percent of its former range. The west coast DPS may be absent from as much as 90 percent of its former range because the collections of historic specimens did not adequately reflect its actual geographic and elevational range. Threats to the species' habitat include development, livestock grazing, introduction of nonnative plant species, changes in hydrology due to construction of dams and alterations to seasonal flooding, poor water quality, and water contamination. Additional threats to the species are predation by nonnative fish and introduced bullfrogs. Based on these threats, we assigned this DPS of Oregon spotted frog a listing priority number of 3.

California tiger salamander (entire population except where listed) (Ambystoma californiense)—The following summary is based on information contained in our files, including information from the petition received on February 26, 1992. The California tiger salamander has been eliminated from 54 percent of its historic breeding sites, and has lost an estimated 65 percent of its habitat. The distribution of the species is now discontinuous and fragmented throughout its range. All of the estimated seven genetic populations of this species have declined significantly because of urban and agricultural development, and other human-caused factors in breeding and upland habitat used for estivation and migration. Existing regulatory mechanisms are inadequate to protect California tiger salamander habitat. Based on non-imminent threats of a high magnitude, we assigned this species a listing priority number of 5.

Boreal toad, Southern Rocky Mountains DPS (Bufo boreas boreas)—The following summary is based on information contained in our files, including information from the petition received on September 30, 1993. Boreal toads of the Southern Rocky Mountain DPS were once common throughout much of the high elevations in Colorado, in the Snowy and Sierra Madre Ranges of southeast Wyoming, and at three breeding localities at the southern periphery of their range in the San Juan Mountains of New Mexico. In the late 1980s boreal toads were found to be absent from 83 percent of breeding localities in Colorado and 94 percent of breeding localities in Wyoming previously known to contain toads. In 1999, the number of known breeding localities increased to 50, with 1 in Wyoming, none in New Mexico, and the remaining sites in Colorado. This increase in known breeding localities, however, was likely due to survey efforts rather than expansion of the population. Land use in boreal toad habitat includes recreation, timber harvesting, livestock grazing, and watershed alteration activities. Though declines in toad numbers have not been directly linked to habitat alteration, activities that destroy, modify, or curtail habitat likely contribute to the continued decline in toad numbers. The current and future use of water rights in the Southern Rocky Mountains may impact boreal toads. Increased demands on limited water resources can result in water level drops in reservoirs that toads are using. Transferring rights from one user group to another (e.g., agricultural to municipal) also could reduce toad habitat, particularly if dewatering of reservoir sites resulted from these transfers. Additional threats to the boreal toad include a chytrid fungus, which likely caused the boreal toad to decline in the 1970s and continues to cause declines. Based on these threats, we assigned this DPS of boreal toad a listing priority number of 3.

Fishes

Gila chub (Gila intermedia)—The following summary is based on information contained in our files, including information from the petition received on June 10, 1998. The Gila chub has been extirpated or reduced in numbers and distribution in the majority of its historical range. Over 70 percent of the Gila chub's habitat has been degraded or destroyed, and much of it is unrecoverable. Of the 15 remaining populations, most are small, isolated, and threatened, and only one population is considered secure. Wetland habitat degradation and loss is a major threat to the Gila chub. Human activities such as groundwater pumping, surface water diversions, impoundments, channelization, improper livestock grazing, vegetation manipulation, agriculture, mining, road building, nonnative species introductions, urbanization, and recreation all contribute to riparian loss and degradation in southern Arizona, thereby, threatening this species. Based on imminent threats of a high magnitude, we assigned this species a listing priority number of 2. Although work on court-ordered section 4 actions have precluded us from issuing a proposed rule to date, despite the fact that this species has a listing priority number of 2, we recently entered into a settlement agreement on October 2, 2001 (Center for Biological Diversity, et al. v. Norton, Civ. No. 01-2063 (JR) (D.D.C.)) that will require us to deliver by July 31, 2002, a proposed rule to the Federal Register for publication.

Arctic grayling, upper Missouri River DPS (Thymallus arcticus)—The following summary is based on information contained in our files, including information from the petition received on October 2, 1992. Presently, the only self-sustaining remnant of the indigenous fluvial Arctic grayling population exists in the Big Hole River, estimated to represent 5 percent or less of the historic range for this species in Montana and Wyoming. Reestablishment efforts are underway in four streams within the historic range. The grayling faces threats primarily from a decrease in available habitat as a result of dewatering of streams for irrigation and stock water, ongoing drought conditions, and habitat degradation from dams and reservoirs. Landowners and other interests are implementing actions to ensure adequate water conditions in the Big Hole River. Additionally, predation on or competition with Arctic grayling by nonnative trout are thought to be factors limiting grayling populations. Due to imminent threats of a low to moderate magnitude, we assigned this DPS of Arctic grayling a listing priority number of 9.

Snails

Koster's tryonia snail (Tryonia kosteri)—The following summary is based on information contained in our files, including information from the petition received on November 20, 1985. Koster's tryonia snail is an aquatic species known only from North Spring (private land) and four spring/seepage areas on Bitter Lake National Wildlife Refuge in Chaves County, New Mexico. This snail was found at several other springs in the Roswell area, but these habitats are no longer suitable due to groundwater pumping. Koster's tryonia snail is imperilled by local and regional ground water depletion, habitat destruction, direct manipulation of lotic habitat (moving water), surface and ground water pollution such as sewage, pesticides, and oil and gas industry operations. The geographically restricted distribution of Koster's tryonia snail makes the species vulnerable to human-caused or natural events that could destroy a significant portion of the species' remaining populations and habitat. Because of these threats, we assigned this species a listing priority number of 2. Although work on court-ordered section 4 actions have precluded us from issuing a proposed rule to date, despite the fact that this species has a listing priority number of 2, we recently entered into a settlement agreement on October 2, 2001 (Center for Biological Diversity, et al. v. Norton, Civ. No. 01-2063 (JR) (D.D.C.)), that will require us to deliver by February 6, 2002, a proposed rule to the Federal Register for publication.

Pecos assiminea snail (Assiminea pecos)—The following summary is based on information contained in our files, including information from the petition received on November 20, 1985. The Pecos assiminea snail is a semiaquatic mollusc known from two spring/seepage areas on Bitter Lake National Wildlife Refuge in Chaves County, New Mexico; Diamond Y Springs complex in Pecos County, Texas; and East Sandia Spring in Reeves County, Texas. This snail was found at other springs in the Roswell, New Mexico, area, but these habitats are no longer suitable due to groundwater pumping. The Pecos assiminea snail is imperilled by habitat destruction, local and regional ground water depletion, direct manipulation of lotic habitat, and surface and ground water pollution, such as sewage, pesticides, and oil and gas industry operations. Steps are needed to protect and maintain the vegetative cover in which the snail lives. Based on imminent threats of a high magnitude, we assigned this species a listing priority of 2. Although work on court-ordered section 4 actions have precluded us from issuing a proposed rule to date, despite the fact that this species has a listing priority number of 2, we recently entered into a settlement agreement on October 2, 2001 (Center for Biological Diversity, et al. v. Norton, Civ. No. 01-2063 (JR) (D.D.C.)), that will require us to deliver by February 6, 2002, a proposed rule to the Federal Register for publication.

Chupadera springsnail (Pyrgulopsis chupaderae)—The following summary is based on information contained in our files, including information from the petition received on November 20, 1985. This aquatic species is endemic to Willow Spring on the Willow Spring Ranch (formerly Cienega Ranch) at the south end of the Chupadera Mountains in Socorro County, New Mexico. The Chupadera springsnail has been documented from two hillside groundwater discharges that flow through grazed areas among rhyolitic gravels containing sand, mud, and hydrophytic plants. Regional and local groundwater depletion, springrun dewatering, and riparian habitat degradation represent the principal threats. The survival and recovery of the Chupadera springsnail is contingent upon protection of the riparian corridor immediately adjacent to Willow Spring, and the availability of perennial, oxygenated flowing water within the species' thermal range. Existing regulatory mechanisms are not sufficient to protect this species. New Mexico State law provides limited protection to the Chupadera springsnail, but this law does not provide for habitat protection. Because these threats are imminent but of a low to moderate magnitude, we assigned this species a listing priority number of 8.

Gila springsnail (Pyrgulopsis gilae)—The following summary is based on information contained in our files, including information from the petition received on November 20, 1985. The Gila springsnail is an aquatic species known from 13 populations in New Mexico. The long-term persistence of the Gila springsnail is contingent upon protection of the riparian corridor immediately adjacent to springhead and springrun habitats, thereby ensuring the maintenance of perennial, oxygenated flowing water within the species' required thermal range. Sites on both private and Federal lands are subject to uncontrolled recreational use and livestock grazing (Mehlhop 1993), thus rendering the long-term survival of the Gila springsnail questionable. Natural events such as drought, forest fire, sedimentation, and flooding; wetland habitat degradation by recreational bathing in thermal springs; and poor watershed management practices such as overgrazing and inappropriate silviculture, represent the primary threats to the Gila springsnail. Fire suppression and retardant chemicals have potentially deleterious effects on this species. Existing regulatory mechanisms are not sufficient to protect the Gila springsnail. New Mexico State law provides limited protection to the Gila springsnail, but this law does not provide for habitat protection. Based on these non-imminent threats of a low magnitude, we assigned a listing priority number of 11 to this species.

New Mexico springsnail (Pyrgulopsis thermalis)—The following summary is based on information contained in our files, including information from the petition received on November 20, 1985. The New Mexico springsnail is an aquatic species known from only two separate populations associated with a series of spring-brook systems along the Gila River in the Gila National Forest in Grant County, New Mexico. The long-term persistence of the New Mexico springsnail is contingent upon protection of the riparian corridor immediately adjacent to springhead and springrun habitats, thereby ensuring the maintenance of perennial, oxygenated flowing water within the species' required thermal range. While the New Mexico springsnail populations may be stable, the sites inhabited by the species are subject to uncontrolled recreational use and livestock grazing. Wetland habitat degradation via recreational use and overgrazing in or near the thermal springs and/or poor watershed management practices represent the primary threats to the New Mexico springsnail. Natural events such as drought, forest fire, sedimentation, and flooding may further imperil populations. Additionally, fire suppression and retardant chemicals have potentially deleterious effects on this species. Existing regulatory mechanisms are also not sufficient to protect the New Mexico springsnail. New Mexico State law provides limited protection to the New Mexico springsnail, but this law does not provide for habitat protection. Based on these non-imminent threats of a low magnitude, we assigned this species a listing priority number of 11.

Roswell springsnail (Pyrgulopsis roswellensis)—The following summary is based on information contained in our files, including information from the petition received on November 20, 1985. The Roswell springsnail is an aquatic species only known from North Spring (private land) and three spring/seepage areas on Bitter Lake National Wildlife Refuge in Chaves County, New Mexico. This snail was found at several other springs in the Roswell area, but these habitats have become unsuitable due to groundwater pumping. The Roswell springsnail is imperilled by local and regional ground water depletion, habitat destruction, direct manipulation of lotic habitat (moving water), surface and ground water pollution (such as sewage), pesticides, and oil and gas industry operations. Existing regulatory mechanisms are not sufficient to protect the Roswell springsnail. New Mexico State law provides limited protection to the Roswell springsnail, but this law does not provide for habitat protection. Due to imminent threats of a high magnitude, we assigned this species a listing priority number of 2. Although work on court-ordered section 4 actions have precluded us from issuing a proposed rule to date, despite the fact that this species has a listing priority number of 2, we recently entered into a settlement agreement on October 2, 2001 (Center for Biological Diversity, et al. v. Norton, Civ. No. 01-2063 (JR) (D.D.C.)), that will require us to deliver by February 6, 2002, a proposed rule to the Federal Register for publication.

Insects

Carson wandering skipper (Pseudocopaeodes eunus obscurus)—The following summary is based on information contained in our files, including information from the petition received on November 14, 2000. We believe that this skipper has been extirpated from the Carson Hot Springs site. As a result, this subspecies currently occurs at three locations in two areas: Pyramid and Honey Lakes. Threats at the Pyramid Lake site include grazing and potential future water development. At the two Honey Lake sites, the invasion of nonnative plant species such as whitetop (Lepidium latifolium), which outcompetes native nectar plants, threatens the skipper. Grazing in this area may also pose a threat to the skipper's habitat. Additional potential future threats include exportation of water from Honey Lake to other locations. Due to imminent threats of a high magnitude, we assigned this subspecies a listing priority number of 3. Although work on court-ordered section 4 actions have precluded us from issuing a proposed rule to date, despite the fact that this species has a listing priority number of 3, we recently entered into a settlement agreement on October 2, 2001 (Center for Biological Diversity, et al. v. Norton, Civ. No. 01-2063 (JR) (D.D.C.)), that will require us to deliver by November 23, 2001, a decision on whether to emergency list to the Federal Register for publication.

Coral Pink Sand Dunes tiger beetle (Cicindela limbata albinssima)—The following summary is based on information contained in our files, including information from the petition received on April 21, 1994. The Coral Pink Sand Dunes (CPSD) tiger beetle is known to occur only at CPSD, about 7 miles west of Kanab, Kane County, in south-central Utah. It is restricted mostly to a small part of the approximately 13-kilometer (8-mile) long dune field, situated at an elevation of about 1,820 meters (6,000 feet). The subspecies' habitat is being adversely impacted by ongoing recreational off-road vehicle (ORV) use. The ORV activity is destroying and degrading the species' habitat, especially the inter-dunal swales used by the larval population. Having the greatest abundance of suitable prey species, the inter-dunal swales are the most biologically productive areas in the CPSD ecosystem. The continued survival of the species depends on the preservation of the species and its habitat at its only breeding reproductive site and the probable need to establish or reestablish additional reproductive subpopulations in other suitable habitat sites within CPSD. The species population is also vulnerable to overcollecting by professional and hobby tiger beetle collectors, although quantification of this threat is difficult without continuous monitoring of the species population. Based on imminent threats of a low to moderate magnitude, we assigned this subspecies a listing priority number of 9.

Flowering plants

Christ's paintbrush (Castilleja christii)—The following summary is based on information contained in our files, including information from the petition received on January 2, 2001. Castilleja christii is endemic to subalpine meadow and sagebrush habitats in the upper elevations of the Albion Mountains, Cassia County, Idaho. The single population of this species, which covers only 81 hectares (ha) (200 acres (ac)), is restricted to the summit of Mount Harrison. The population appears to be stable, although the species is threatened by a variety of activities including frequent unauthorized off-road vehicle use that results in erosion of the plant's habitat and mortality of individual plants. Livestock grazing can adversely affect C. christii by trampling and/or consuming plants, which results in reduced reproductive success; grazing occurred in the area where C. christii exists during 1999, but not in 2000. In addition, road maintenance activities and trampling by hikers potentially impact this species. Because the threats are of a low to moderate magnitude and non-imminent, we assigned this species a listing priority number of 11.

San Fernando Valley spineflower (Chorizanthe parryi fernandina)—The following summary is based on information contained in our files, including information from the petition received on December 14, 1999. Chorizanthe parryi var. fernandina was thought to be extinct, but its rediscovery was disclosed in the late spring of 1999. The plant currently is known from two disjunct localities. The first locality is in the southeastern portion of Ventura County, on a site approved for development, where it was found and identified by consultants employed by the developer. The second is located in southwestern Los Angeles County on a site with approved development plans. As currently planned, it is likely that construction of proposed development will extirpate the first population in Ventura County. It is unclear how the development in Los Angeles will affect that population. The majority of the historical collections of this plant, from the greater Los Angeles metropolitan area, were made from areas where urban, agricultural, and industrial development have replaced native habitats. During the last few decades, numerous field botanists have been unable to locate the species, even where historically recorded, largely due to the alteration and loss of suitable habitat. San Fernando Valley spineflower is also threatened by invasive nonnative plants, including grasses, that potentially fragment suitable habitat; displace it from available habitat; compete for light, water, and nutrients; and reduce survival and establishment. This plant is particularly vulnerable to extinction due to its two isolated populations. Species with few populations and disjunct distributions are vulnerable to naturally occurring, random events. Because of imminent threats of a high magnitude, we assigned a listing priority number of 3 to this plant.

Slick spot peppergrass (Lepidium papilliferum)—The following summary is based on information contained in our files, including information from the petition received on April 9, 2001. Lepidium papilliferum is an annual or biennial that occurs in sagebrush-steppe habitats at approximately 670 meters (m) (2,200 feet (ft)) to 1,615 m (5,300 ft) elevation in southwestern Idaho. The total amount of currently occupied L. papilliferum habitat is less than 31.8 ha (78.4 ac), and the amount of high-quality occupied habitat for this species is less than 1.3 ha (3.3 ac). The documented extirpation rate for this taxon is the highest known of any Idaho rare plant species. This species is threatened by a variety of activities including urbanization, gravel mining, irrigated agriculture, habitat degradation due to cattle and sheep grazing, fire and fire rehabilitation activities, and continued invasion of habitat by nonnative plant species. Because the majority of populations are extremely small and existing habitat is fragmented by agricultural conversion, fire, grazing, roads, and urbanization, local extirpation is a threat to this species. Based on immediate threats of a high magnitude, we assigned this species a listing priority number of 2.

White River beardtongue (Penstemon scariosus albifluvis)—The following summary is based on information contained in our files, including information from the petition received on October 27, 1983. The White River beardtongue is restricted to calcareous soils derived from oil shale barrens of the Green River Formation in the Uinta Basin of northeastern Utah and adjacent Colorado. Most of the occupied habitat of the White River beardtongue is within developed and expanding oil and gas fields. Several wells and access roads are within the species' occupied habitat. The location of the species' habitat exposes it to destruction from off-road vehicle use, and road, pipeline, and well-site construction in connection with oil and gas development. With such a small population and limited occupied habitat, any destruction, modification, or curtailment of the habitat would have a highly negative impact on the species. Additionally, the species is heavily grazed by wildlife and livestock and is vulnerable to livestock trampling. Currently, no Federal or State laws specifically protect the White River beardtongue. Based on non-imminent threats of a high magnitude, we assigned this subspecies a listing priority number of 6.

Tahoe yellow cress (Rorippa subumbellata)—The following summary is based on information contained in our files, including information from the petition received on December 27, 2000. Tahoe yellow cress is a small, perennial herb known only from the shores of Lake Tahoe in California and Nevada. Based on presence/absence information, it has been determined that the Tahoe yellow cress has been extirpated from 10 of 52 historic locations. Tahoe yellow cress occurs in a dynamic environment affected by both natural processes and human activities. Under natural conditions, Tahoe yellow cress is apparently tolerant of the dynamic nature of its habitat and is adapted for survival in a disturbance regime. However, due to the combination of unnatural lake level fluctuation due to dam operations and other human activities, habitat conditions are no longer considered natural. Heavy recreational use of the beaches may result in the direct loss of individual plants as well as the degradation of habitat through compaction and mixing of sandy substrates. Based on imminent threats of a high magnitude, we assigned this species a listing priority number of 2.

Petition To Reclassify Species Already Listed

We have also previously made warranted but precluded findings on five petitions that sought to reclassify to endangered status species already listed as threatened. Because these species are already listed, they are not technically candidates for listing and are not included in Table 1. However, this notice also constitutes the recycled petition findings for these species. We find that reclassification to endangered status is currently warranted but precluded by work identified above (see Petition of a Candidate Species) for the:

(1) North Cascades ecosystem grizzly bear (Ursus arctos horribilis) DPS (Region 6) (see 64 FR 30453 for a discussion on why reclassification is warranted);

(2) Cabinet-Yaak grizzly bear DPS (Region 6) (see 64 FR 26725 for a discussion on why reclassification is warranted);

(3) Selkirk grizzly bear DPS (Region 6) (see 64 FR 26725 for a discussion on why reclassification is warranted);

(4) Spikedace (Meda fulgida) (Region 2) (see 59 FR 35303 for a discussion on why reclassification is warranted); and

(5) Loach minnow (Tiaroga cobitis) (Region 2) (see 59 FR 35303 for a discussion on why reclassification is warranted).

Progress in Revising the Lists

As described in section 4(b)(3)(B)(iii) of the Act, in order for us to make a warranted but precluded finding on a petitioned action, we must be making expeditious progress to add qualified species to the Lists and to remove from the Lists species for which the protections of the Act are no longer necessary. This notice describes our progress in revising the lists during the last two fiscal years since our October 25, 1999 publication of the last CNOR. We intend to publish these descriptions annually.

Our progress in listing and delisting qualified species during fiscal years 1999 and 2000 is represented by the publication in the Federal Register of final listing actions for 52 species, proposed listing actions for 33 species, final delisting actions for 2 species, and proposed delisting actions for 3 species. In addition, we proposed critical habitat for 174 listed species, and finalized critical habitat for 21 listed species. Given the Service's limited budget for implementing section 4, these achievements constitute expeditious progress.

Request for Information

We request you submit any further information on the species named in this notice as soon as possible or whenever it becomes available. We are particularly interested in any information:

(1) Indicating that we should add a species to the list of candidate species;

(2) Indicating that we should remove a species from candidate status;

(3) Recommending areas that we should designate as critical habitat for a species, or indicating that designation of critical habitat would not be prudent for a species;

(4) Documenting threats to any of the included species;

(5) Describing the immediacy or magnitude of threats facing candidate species;

(6) Pointing out taxonomic or nomenclature changes for any of the species;

(7) Suggesting appropriate common names; or

(8) Noting any mistakes, such as errors in the indicated historical ranges. Submit your comments regarding a particular species to the Regional Director of the Region identified as having the lead responsibility for that species. The regional addresses follow:

Region 1. California, Hawaii, Idaho, Nevada, Oregon, Washington, American Samoa, Guam, and Commonwealth of the Northern Mariana Islands.

Regional Director (TE), U.S. Fish and Wildlife Service, Eastside Federal Complex, 911 N.E. 11th Avenue, Portland, Oregon 97232-4181 (503/231-6158).

Region 2. Arizona, New Mexico, Oklahoma, and Texas.

Regional Director (TE), U.S. Fish and Wildlife Service, 500 Gold Avenue SW., Room 4012, Albuquerque, New Mexico 87102 (505/248-6920).

Region 3. Illinois, Indiana, Iowa, Michigan, Minnesota, Missouri, Ohio, and Wisconsin.

Regional Director (TE), U.S. Fish and Wildlife Service, Bishop Henry Whipple Federal Building, One Federal Drive, Fort Snelling, Minnesota 55111-4056 (612/713-5334).

Region 4. Alabama, Arkansas, Florida, Georgia, Kentucky, Louisiana, Mississippi, North Carolina, South Carolina, Tennessee, Puerto Rico, and the U.S. Virgin Islands.

Regional Director (TE), U.S. Fish and Wildlife Service, 1875 Century Boulevard, Suite 200, Atlanta, Georgia 30345 (404/679-4156).

Region 5. Connecticut, Delaware, District of Columbia, Maine, Maryland, Massachusetts, New Hampshire, New Jersey, New York, Pennsylvania, Rhode Island, Vermont, Virginia, and West Virginia.

Regional Director (TE), U.S. Fish and Wildlife Service, 300 Westgate Center Drive, Hadley, Massachusetts 01035-9589 (413/253-8615).

Region 6. Colorado, Kansas, Montana, Nebraska, North Dakota, South Dakota, Utah, and Wyoming.

Regional Director (TE), U.S. Fish and Wildlife Service, P.O. Box 25486, Denver Federal Center, Denver, Colorado 80225-0486 (303/236-7400).

Region 7. Alaska.

Regional Director (TE), U.S. Fish and Wildlife Service, 1011 East Tudor Road, Anchorage, Alaska 99503-6199 (907/786-3505).

Our practice is to make comments, including names and home addresses of respondents, available for public inspection. Individual respondents may request that we withhold their home address from the public record, which we will honor to the extent allowable by law. In some circumstances, we can also withhold from the public record a respondent's identity, as allowable by law. If you wish for us to withhold your name and/or address, you must state this request prominently at the beginning of your comments. However, we will not consider anonymous comments. We will make all submissions from organizations or businesses, and from individuals identifying themselves as representatives or officials of organizations or businesses, available for public inspection in their entirety.

List of Subjects in 50 CFR Part 17

Endangered and threatened species, Exports, Imports, Reporting and recordkeeping requirements, Transportation.

Authority

This notice of review is published under the authority of the Endangered Species Act (16 U.S.C. 1531 et seq.).

Dated: October 17, 2001.
Marshall P. Jones, Jr.,
Acting Director, Fish and Wildlife Service.

Table 1. Candidate Notice of Review (Animal and Plant)
Status: Category | Status: Priority | Lead Region | Common name | Scientific name | Family | Historic range
Mammals
PT | 3 | R1 | Bat, Mariana fruit | Pteropus mariannus mariannus | Pteropodidae | Western Pacific Ocean U.S.A. (GU, MP).
C* | 3 | R1 | Bat, sheath-tailed (American Samoa, Aguijan DPS) | Emballonura semicaudata | Emballonuridae | U.S.A. (AS, GU, MP), Caroline Islands .
C* | 3 | R1 | Fox, island (Santa Catalina, Santa Cruz, San Miguel, Santa Rosa Islands) | Urocyon littoralis catalinae, U. l. santacruzae, U. l. littoralis, and U. l. santarosae | Canidae | U.S.A. (California).
C* | 3 | R7 | Otter, northern sea (Aleutian Islands DPS) | Enhydra lutris kenyoni | Mustelidae | U.S.A. southwest AK).
C | 6 | R1 | Pocket Gopher, Mazama | Thomomys mazama | Geomyidae | U.S.A. (Washington).
C* | 8 | R6 | Prairie dog, black-tailed | Cynomys ludovicianus | Sciuridae | U.S.A. (AZ, CO, KS, MT, NE, NM, ND, OK, SD, TX, WY), Canada, Mexico.
PE | 3 | R1 | Shrew, Buena Vista Lake | Sorex ornatus relictus | Soricidae | U.S.A. (CA).
C | 6 | R1 | Squirrel, Coachella Valley round-tailed | Spermophilus tereticaudus chlorus | Soricidae | U.S.A. (CA).
C* | 3 | R1 | Squirrel, Southern Idaho ground | Spermophilus brunneus endemicus | Sciuridae | U.S.A. (ID).
C* | 2 | R1 | Squirrel, Washington ground | Spermophilus washingtoni | Sciuridae | U.S.A. (WA, OR).
Birds
C | 6 | R1 | Crake, spotless | Porzana tabuensis | Rallidae | U.S.A. (AS), Figi, Marquesas, Polynesia, Philippines, Australia, Society Islands, Tonga, Western Samoa.
C | 5 | R1 | Creeper, Kauai | Oreomystis bairdi | Fringillidae | U.S.A. (HI).
C* | 6 | R1 | Cuckoo, yellow-billed (Western cont. U.S. DPS) | Coccyzus americanus | Cucilidae | U.S.A. (AZ, CA, CO, ID, MT, NM, NV, OR, TX, UT, WA, WY)
C | 6 | R1 | Dove, friendly ground | Gallicolumba stairi | Columbidae | U.S.A. (AS), Fiji, Tonga, Western Samoa.
C | 6 | R1 | Dove, many-colored fruit | Ptilinopus perousii perousii | Columbidae | U.S.A. (AS).
C* | 5 | R6 | Grouse, Gunnison sage | Centrocercus minimus | Phasianidae | U.S.A. (AZ, CO, KS, OK, NM, UT).
C* | 9 | R1 | Grouse, western sage (Washington DPS = Columbia basin) | Centrocercus urophasianus phaios | Phasianidae | U.S.A. (WA).
C | 6 | R1 | Horned lark, streaked | Eremophila alpestris strigata | Alaudidae | U.S.A. (WA, OR), Canada (BC).
PT | 2 | R6 | Plover, mountain | Charadrius montanus | Charadriidae | U.S.A. (western), Canada, Mexico.
C* | 8 | R2 | Prairie-chicken, lesser | Tympanuchus pallidicinctus | Phasianidae | U.S.A. (CO, KA, NM, OK, TX).
C* | 3 | R1 | Storm-petrel, band-rumped (Hawaii DPS) | Oceanodroma castro | Hydrobatidae | U.S.A. (HI).
C | 5 | R4 | Warbler, elfin woods | Dendroica angelae | Emberizidae | U.S.A. (PR).
PE | 2 | R1 | White-eye, Rota bridled | Zosterops rotensis | Zosteropidae | U.S.A. (MP).
Reptiles
C | 2 | R2 | Lizard, sand dune lizard | Sceloporus arenicolus | Iguanidae | U.S.A. (TX, NM).
C | 9 | R3 | Snake, eastern Massasauga | Sistrurus catenatus catenatus. | Viperidae U.S.A. (IA, IL, IN, MI, MO, MN, NY, OH, PA, WI), Canada (Ont.).
C | 6 | R4 | Snake, black pine | Pituophis | Colubridae melanoleucus ssplodingi. | U.S.A. (AL, LA, MS).
C* | 5 | R4 | Snake, Louisiana pine | Pituophis ruthveni | Colubridae | U.S.A. (LA, TX).
C* | 5 | R2 | Turtle, Cagle's map | Graptemys caglei | Emydidae | U.S.A. (TX).
C | 3 | R2 | Turtle, Sonoyta mud | Kinosternon sonoriense longifemorale | Kinosternidae | U.S.A. (AZ), Mexico.
Amphibians
PT | 2 | R2 | Frog, Chiricahua leopard | Rana chiricahuensis | Ranidae | U.S.A. (AZ, NM), Mexico.
C* | 3 | R1 | Frog, Columbia spotted (Great Basin DPS) | Rana luteiventris | Ranidae | U.S.A. (ID, NV, OR).
PE | 2 | R4 | Frog, Mississippi gopher (wherever found west of Mobile and Tombigbee Rivers in AL, MS, and LA | Rana capito sevosa | Ranidae | U.S.A. (AL, LA, MS).
PE | N/A | R1 | Frog, mountain yellow-legged (southern California DPS) | Rana muscosa | Ranidae | U.S.A. (CA, NV) including San Diego, Orange, Riverside, San Bernardino, and Los Angeles Counties.
C* | 3 | R1 | Frog, Oregon spotted (West Coast DPS) | Rana pretiosa | Ranidae | U.S.A (CA, OR, WA), Canada (BC).
C | 6 | R4 | Hellbender, Ozark | Cryptobranchus alleganiensis bishopi | Crytobranchidae | U.S.A. (AR, MO).
C* | 5 | R1 | Salamander tiger California (entire except where listed) | Ambystoma californiense | Ambystomatidae | U.S.A. (CA).
C | 2 | R2 | Salamander, Georgetown | Eurycea naufragia | Plethodontidae | U.S.A. (TX).
C* | 3 | R6 | Toad, boreau (Southern Rocky Mountains DPS) | Bufo boreas boreas | Bufonidae | U.S.A. (CO, NM, WY).
C | 5 | R4 | Waterdog, black warrior | Necturus alabamensis | Proteidae | U.S.A. (AL).
Fishes
PE | 3 | R1 | Chub, Cowhead Lake tui | Gila bicolor vaccaceps | Cyprinidae | U.S.A. (CA).
C* | 2 | R2 | Chub, Gila | Gila intermedia | Cyprinidae | U.S.A. (AZ, NM), Mexico.
C | 5 | R6 | Darter, Arkansas | Etheostoma cragini | Percidae | U.S.A. (AR, CO, KS, MO, OK).
C | 6 | R4 | Darter, Cumberland johnny | Etheostoma nigrum susanae | Percidae | U.S.A. (KY, TN).
PE | N/A | R4 | Darter. Vermilion | Etheostoma chermocki | Percidae | U.S.A. (AL).
C | 2 | R4 | Darter, yellowcheek | Etheostoma moorei | Percidae | U.S.A. (AK).
C | 5 | R4 | Darter. Pearl | Percina aurora | Percidae | U.S.A. (LA, MS)
C* | 9 | R6 | Grayling, Arctic (upper Missouri River DPS) | Thymallus arcticus | Salmonidae | U.S.A. (MT, WY)
C | 3 | R2 | Sucker, Zuni bluehead | Catostomus discobolus yarrowi | Catostomidae | U.S.A. (AZ, NM)
PT | 6 | R1 | Trout, coastal cutthroat (southwestern WA/Columbia River DPS) | Oncorhynchus clarki clarki | Salmonidae | U.S.A. (AK, CA, OR, WA), Canada.
PT | N/A | R1 | Trout, Dolly Varden | Salvelinus malma | Salmonidae | U.S.A. (AK, OR, WA), Canada, East Asia.
Clams
C | 5 | R4 | Clubshell, Alabama | Pleurobema troshelianum | Unionidae | U.S.A. (AL, GA, TN).
C | 5 | R4 | Clubshell, painted | Pleurobema chattanoogaense | Unionidae | U.S.A. (AL, GA, TN).
C | 2 | R2 | Hornshell, Texas | Popenaias popei | Unionidae | U.S.A. (NM, TX), Mexico.
C | 5 | R4 | Kidneyshell, fluted | Ptychobranchus subtentum | Unionidae | U.S.A. (AL, KY, TN, VA.
C | 5 | R4 | Mucket, Neosho | Lampsilis rafinesqueana | Unionidae | U.S.A. (AR, KS, MO, OK).
C | 2 | R4 | Pearlshell, Alabama | Margaritifera marrianae | Margaritiferidae | U.S.A. (AL).
C | 5 | R4 | Pearlymussel, slabside | Lexingtonia dolabelloides | Unionidae | U.S.A. (AL, KY, TN, VA).
C | 5 | R4 | Pigtoe, Georgia | Pleurobema hanleyanum | Unionidae | U.S.A. (AL, GA, TN).
Snails
C | 1 | R3 | Cavesnail, Tumbling Creek | Antrobia culveri | Hydrobiidae | U.S.A. (MO).
C | 9 | R6 | Mountainsnail, Ogden Deseret | Oreohelix, perpherica wasatchensis | Oreohelicidae | U.S.A. (UT).
C | 2 | R6 | Pondsnail, Bonneville | Stagnicola bonnevillensis | Lymnaeidae | U.S.A. (UT).
C | 5 | R4 | Rocksnail, Georgia | Leptoxis downei | Pleuroceridae | U.S.A. (GA, AL).
C | 2 | R1 | Sisi | Ostodes strigatus | Potaridae | U.S.A. (AS).
C | 2 | R2 | Snail, Diamond Y Spring | Tryonia adamantina | Hydrobiidae | U.S.A. (TX).
C | 2 | R1 | Snail, fragile tree | Samoana fragilis | Partulidae | U.S.A. (GU, MP).
C | 2 | R1 | Snail, Guam tree | Partula radiolata | Partulidae | U.S.A. (GU).
C | 2 | R1 | Snail, Humped tree | Partula gibba | Partulidae | U.S.A. (GU, MP).
C* | 2 | R2 | Snail, Koster's tryonia | Tryonia kosteri | Hydrobiidae | U.S.A. (NM).
C | 2 | R1 | Snail, Lanai tree | Partulina semicarinata | Achatinellidae | U.S.A. (HI).
C | 2 | R1 | Snail, Lanai tree | Partulina variabilis | Achatinellidae | U.S.A. (HI).
C | 2 | R1 | Snail, Langford's tree | Partula langfordi | Partulidae | U.S.A. (MP).
C* | 2 | R2 | Snail, Pecos | Assiminea pecos | Assimineidae | U.S.A. (NM, TX), Mexico.
C | 2 | R2 | Snail, Phantom cave | Cochliopa texana | Hydrobiidae | U.S.A. (TX).
C | 2 | R1 | Snail, Tutuila tree | Eua zebrina | Partulidae | U.S.A. (AS).
C* | 8 | R2 | Springsnail, Chupadera | Pyrgulopsis chupaderae | Hydrobiidae | U.S.A. (NM).
C* | 11 | R2 | Springsnail, Gila | Pyrgulopsis gilae | Hydrobiidae | U.S.A. (NM).
C | 2 | R2 | Springsnail, Gonzales | Tryonia circumtriata (=stocktonensis) | Hydrobiidae | U.S.A. (TX).
C | 5 | R2 | Springsnail, Huachuca | Pyrgulopsis thompsoni | Hydrobiidae | U.S.A. (AZ), Mexico.
C* | 11 | R2 | Springsnail, New Mexico | Pyrgulopsis thermalis | Hydrobiidae | U.S.A. (NM).
C | 2 | R2 | Springsnail, Page | Pyrgulopsis morrisoni | Hydrobiidae | U.S.A. (AZ).
C | 2 | R2 | Springsnail, Phantom | Tryonia cheatumi | Hydrobiidae | U.S.A. (TX).
C* | 2 | R2 | Springsnail, Roswell | Pyrgulopsis roswellensis | Hydrobiidae | U.S.A. (NM).
C | 2 | R2 | Springsnail, Three Forks | Pyrgulopsis trivialis | Hydrobiidae | U.S.A. (AZ).
C | 5 | R1 | Tree snail, Newcomb's | Newcombia cumingi | Achatinellidae | U.S.A. (HI).
Insects
C | 5 | R5 | Beetle, Holsinger's cave | Pseudanophthalmus holsingeri | Carabidae | U.S.A. (VA).
C | 11 | R6 | Beetle, warm springs zaitzevian riffle | Zaitzevia thermae | Elmidae | U.S.A. (MT).
C | 2 | R1 | Bug, Wekiu | Nysius wekiuicola | Lygaeidae | U.S.A. (HI).
C | 3 | R1 | Butterfly, Mariana eight-spot | Hypolimnas octucula mariannensis | Nymphalidae | U.S.A. (GU, MP).
C | 2 | R1 | Butterfly, Mariana wandering | Vagrans egestina | Nymphalidae | U.S.A. (GU, MP).
PE | N/A | R2 | Butterfly, Sacramento Mountains checkerspot | Euphydryas anicia cloudcrofti | Nymphalidae | U.S.A. (NM).
C | 6 | R1 | Butterfly, Whulge checkerspot | Euphydryas editha taylor | Nymphalidae | U.S.A. (OR, WA) Canada (BC).
C | 5 | R4 | Caddisfly, Sequatchie | Glyphopsyche sequatchie | Limnephilidae | U.S.A. (TN).
C | 5 | R4 | Cave beetle, beaver | Pseudanophthalmus major | Carabidae | U.S.A. (KY).
C | 5 | R4 | Cave beetle, Clifton | Pseudanophthalmus caecus | Carabidae | U.S.A. (KY).
C | 5 | R4 | Cave beetle, icebox | Pseudanophthalmus frigidus | Carabidae | U.S.A. (KY).
C | 5 | R4 | Cave beetle greater Adams | Pseudanophthalmus pholeter | Carabidae | U.S.A. (KY).
C | 5 | R4 | Cave beetle, inquirer | Pseudanophthalmus inquistor | Carabidae | U.S.A. (TN).
C | 5 | R4 | Cave beetle, lesser Adams | Pseudanophthalmus cataryctos | Carabidae | U.S.A. (KY).
C | 5 | R4 | Cave beetle, Louisville | Pseudanophthalmus troglodytes | Carabidae | U.S.A. (KY).
C | 5 | R4 | Cave beetle, surprising | Pseudanophthalmus inexpectatus | Carabidae | U.S.A. (KY).
C | 5 | R4 | Cave beetle, Tatum | Pseudanophthalmus parvus | Carabidae | U.S.A. (KY).
C | 9 | R1 | Damselfly, blackline Hawaiian | Megalagrion nigrohamatum nigrolineatum | Coenagrionidae | U.S.A. (HI).
C | 2 | R1 | Damselfly, crimson Hawaiian | Megalagrion leptodemus | Coenagrionidae | U.S.A. (HI).
C | 2 | R1 | Damselfly, flying earwig Hawaiian | Megalagrion nesiotes | Coenagrionidae | U.S.A. (HI).
C | 2 | R1 | Damselfly, oceanic Hawaiian | Megalagrion oceanicum | Coenagrionidae | U.S.A. (HI).
C | 8 | R1 | Damselfly, orangeblack Hawaiian | Megalagrion xanthomelas | Coenagrionidae | U.S.A. (HI).
C | 2 | R1 | Damselfly, Pacific Hawaiian | Megalagrion pacificum | Coenagrionidae | U.S.A. (HI).
C | 5 | R1 | Gall fly, Po'olanui | Phaeogramma sp. | Tephritidae | U.S.A. (HI).
C | 1 | R1 | Moth, fabulous green sphinx | Tinostoma smaragditis | Sphingidae | U.S.A. (HI).
PE | 2 | R1 | Pomace fly, [unnamed] | Drosophila aglaia | Drosophilidae | U.S.A. (HI).
C | 2 | R1 | Pomace fly, [unnamed] | Drosophila attigua | Drosophilidae | U.S.A. (HI).
C | 2 | R1 | Pomace fly, [unnamed] | Drosophila Digressa | Drosophilidae | U.S.A. (HI).
PE | 2 | R1 | Pomace fly, [unnamed] | Drosophila heteroneura | Drosophilidae | U.S.A. (HI).
PE | 2 | R1 | Pomace fly, [unnamed] | Drosophila montgomeryi | Drosophilidae | U.S.A. (HI).
PE | 2 | R1 | Pomace fly, [unnamed] | Drosophila mulli | Drosophilidae | U.S.A. (HI).
PE | 2 | R1 | Pomace fly, [unnamed] | Drosophila musaphila | Drosophilidae | U.S.A. (HI).
PE | 2 | R1 | Pomace fly, [unnamed] | Drosophila neoclavisetae | Drosophilidae | U.S.A. (HI).
PE | 2 | R1 | Pomace fly, [unnamed] | Drosophila obatai | Drosophilidae | U.S.A. (HI).
PE | 2 | R1 | Pomace fly, [unnamed] | Drosophila substenoptera | Drosophilidae | U.S.A. (HI).
PE | 2 | R1 | Pomace fly, [unnamed] | Drosophila tarphytrichia | Drosophilidae | U.S.A. (HI).
PE | 2 | R1 | Pomace fly, [unnamed] | Drosophila hemipeza | Drosophilidae | U.S.A. (HI).
PE | 2 | R1 | Pomace fly, [unnamed] | Drosophila ochrobasis | Drosophilidae | U.S.A. (HI).
PE | 2 | R1 | Pomace fly, [unnamed] | Drosophila differens | Drosophilidae | U.S.A. (HI).
C* | 3 | R1 | Skipper, Carson wandering | Pseudocopaeodes eunus obscurus | Hesperiidae | U.S.A. (CA, NV).
C | 5 | R1 | Skipper, Mardon | Polites mardon | Hesperiidae | U.S.A. (CA, OR, WA).
C* | 9 | R6 | Tiger beetle, Coral Pink sand dunes | Cindelidae limbata albinssima | Cicindela | U.S.A. (UT).
C | 5 | R4 | Tiger beetle, highlands | Cicindela highlandensis | Cicindelidae | U.S.A. (FL).
C | 3 | R6 | Tiger beetle, Salt Creek | Cicindela nevadica lincolniana | Cicindelidae | U.S.A. (NE).
Arachnids
C | 2 | R2 | Meshweaver, Warton cave | Cicurina wartonia | Dictynidae | U.S.A. (TX).
Crustaceans
C | 11 | R4 | Crayfish, Camp Shelby burrowing | Fallicambarus gordoni | Cambaridae | U.S.A. (MS).
C | 2 | R1 | Shrimp, anchialine pool | Metabetaeus lohena | Alpheidae | U.S.A. (HI).
C | 2 | R1 | Shrimp, anchialine pool | Antecaridina lauensis | Atyidae | U.S.A. (HI), Mozambique, Saudi Arabia, Japan.
C | 2 | R1 | Shrimp, anchialine pool | Calliasmata pholidota | Alpheidae | U.S.A. (HI), Funafuti Atol, Saudi Arabia, Sinai Penninsula, Tuvalu.
C | 2 | R1 | Shrimp, anchialine pool | Palaemonella burnsi | Palaemonidae | U.S.A. (HI).
C | 2 | R1 | Shrimp, anchialine pool | Procaris hawaiana | Procarididae | U.S.A. (HI).
C | 2 | R1 | Shrimp, anchialine pool | Vetericaris chaceorum | Procaridae | U.S.A. (HI).
C | 5 | R4 | Shrimp, troglobitic groundwater | Typhlatya monae | Atyidae | U.S.A. (PR), Barbuda, Dominican Republic.
Flowering Plants
C | 11 | R1 | Sand-verbena, Ramshaw Meadows | Abronia alpina | Nyctaginaceae | U.S.A. (CA).
PE | N/A | R1 | Ambrosia, San Diego | Ambrosia pumila | Asteraceae | U.S.A. (CA), Mexico.
C | 11 | R4 | Rockcress, Georgia | Arabis georgiana | Brassicaceae | U.S.A. (AL, GA).
C | 11 | R4 | Silverbrush, Blodgett's | Argythamnia blodgettii | Euphorbiaceae | U.S.A. (FL).
C | 3 | R1 | Wormwood, Northern | Artemisia campestris wormskioldii | Asteraceae | U.S.A. (OR, WA).
C | 2 | R1 | Paìniu | Astelia waialealae | Liliaceae | U.S.A. (HI).
C | 5 | R4 | Aster, Georgia | Aster georgianus | Asteraceae | U.S.A. (AL, FL, GA, NC, SC).
C | 8 | R6 | Milk-vetch, horseshoe | Astragalus equisolensis | Fabaceae | U.S.A. (UT).
C | 8 | R6 | Milk-vetch, Sleeping Ute | Astragalus tortipes | Fabaceae | U.S.A. (CO).
C | 5 | R1 | Ko`oko`olau | Bidens amplectens | Asteraceae | U.S.A. (HI).
C | 6 | R1 | Ko`oko`olau | Bidens campylotheca pentamera | Asteraceae | U.S.A. (HI).
C | 3 | R1 | Ko`oko`olau | Bidens campylotheca waihoiensis | Asteraceae | U.S.A. (HI).
C | 8 | R1 | Ko`oko`olau | Bidens conjuncta | Asteraceae | U.S.A. (HI).
C | 6 | R1 | Ko`oko`olau | Bidens micrantha ctenophylla | Asteraceae | U.S.A. (HI).
C | 5 | R4 | Brickell-bush, Florida | Brickellia mosieri | Asteraceae | U.S.A. (FL).
C | 5 | R1 | Reedgrass, [unnamed] | Calamagrostis expansa | Poaceae | U.S.A. (HI).
C | 5 | R1 | Reedgrass, [unnamed] | Calamagrostis hillebrandii | Poaceae | U.S.A. (HI).
C | 5 | R4 | No common name | Calliandra locoensis | Mimosaceae | U.S.A. (PR).
C | 5 | R4 | No common name | Calyptranthes estremerae | Myrtaceae | U.S.A. (PR).
C | 5 | R1 | Àwikiwiki | Canavalia napaliensis | Fabaceae | U.S.A. (HI).
C | 2 | R1 | Àwikiwiki | Canavalia pubescens | Fabaceae | U.S.A. (HI).
PE | 5 | R4 | Sedge, golden | Carex lutea | Cyperaceae | U.S.A. (NC).
C | 8 | R6 | Paintbrush, Aquarius | Castilleja aquariensis | Scrophulariaceae | U.S.A. (UT).
C* | 11 | R1 | Paintbrush, Christ’s | Castilleja christii | Scrophulariaceae | U.S.A. (ID).
C | 6 | R4 | Pea, Big Pine partridge | Chamaecrista lineata keyensis | Fabaceae | U.S.A. (FL).
C | 6 | R4 | Sandmat, pineland | Chamaesyce deltoidea pinetorum | Euphorbiaceae | U.S.A. (FL).
C | 6 | R4 | Spurge, wedge | Chamaesyce deltoidea serpyllum | Euphorbiaceae | U.S.A. (FL).
C | 5 | R1 | Àkoko | Chamaesyce eleanoriae | Euphorbiaceae | U.S.A. (HI).
C | 6 | R1 | Àkoko | Chamaesyce remyi kauaiensis | Euphorbiaceae | U.S.A. (HI).
C | 6 | R1 | Àkoko | Chamaesyce remyi remyi | Euphorbiaceae | U.S.A. (HI).
C | 5 | R1 | Papala | Charpentiera densiflora | Amaranthaceae | U.S.A. (HI).
C* | 3 | R1 | Spineflower, San Fernando Valley | Chorizanthe parryi fernandina | Polygonaceae | U.S.A. (CA).
C | 5 | R4 | Thoroughwort, Cape Sable | Chromolaena frustata | Asteraceae | U.S.A. (FL).
C | 2 | R4 | No common name | Cordia rupicola | Boraginaceae | U.S.A. (PR), Anegada.
C | 2 | R1 | Haha | Cyanea asplenifolia | Campanulaceae | U.S.A. (HI).
C | 5 | R1 | Haha | Cyanea calycina | Campanulaceae | U.S.A. (HI).
C | 2 | R1 | Haha | Cyanea eleeleensis | Campanulaceae | U.S.A. (HI).
C | 2 | R1 | Haha | Cyanea kuhihewa | Campanulaceae | U.S.A. (HI).
C | 5 | R1 | Haha | Cyanea kunthiana | Campanulaceae | U.S.A. (HI).
C | 5 | R1 | Haha | Cyanea lanceolata | Campanulaceae | U.S.A. (HI).
C | 2 | R1 | Haha | Cyanea obtusa | Campanulaceae | U.S.A. (HI).
C | 5 | R1 | Haha | Cyanea tritomantha | Campanulaceae | U.S.A. (HI).
C | 2 | R1 | Haìwale | Cyrtandra filipes | Gesneriaceae | U.S.A. (HI).
C | 5 | R1 | Haìiwale | Cyrtandra kaulantha | Gesneriaceae | U.S.A. (HI).
C | 5 | R1 | Haìiwale | Cyrtandra oenobarba | Gesneriaceae | U.S.A. (HI).
C | 2 | R1 | Haìiwale | Cyrtandra oxybapha | Gesneriaceae | U.S.A. (HI).
C | 2 | R1 | Haìiwale | Cyrtandra sessilis | Gesneriaceae | U.S.A. (HI).
C | 6 | R4 | Prairie-clover, Florida | Dalea carthagenensis floridana | Fabaceae | U.S.A. (FL).
C | 5 | R4 | Crabgrass, Florida pineland | Digitaria pauciflora | Poaceae | U.S.A. (FL).
C | 6 | R1 | Na`ena`e | Dubautia imbricata imbricata | Asteraceae | U.S.A. (HI).
C | 3 | R1 | Na`ena`e | Dubautia plantaginea magnifolia | Asteraceae | U.S.A. (HI).
C | 5 | R1 | Na`ena`e | Dubautia waialealae | Asteraceae | U.S.A. (HI).
C | 6 | R2 | Cacuts, acuna | Echinomastus erectocentrus acunensis | Cactaceae | U.S.A. (AZ), Mexico.
C | 11 | R1 | Daisy, basalt | Erigeron basalticus | Asteraceae | U.S.A. (WA).
C | 5 | R2 | Fleabane, Lemmon | Erigeron lemmonii | Asteraceae | U.S.A. (AZ).
C | 5 | R1 | Desert-buckwheat, Umtanum | Eriogonum codium | Polygonaceae | U.S.A. (WA).
C | 5 | R1 | Buckwheat, Red Mountain | Eriogonum kelloggii | Polygonaceae | U.S.A. (CA).
C | 5 | R1 | No common name | Festuca hawaiiensis | Poaceae | U.S.A. (HI).
C | 11 | R2 | Fescue, Guadalupe | Festuca ligulata | Poaceae | U.S.A. (TX), Mexico.
C | 5 | R1 | Nanu | Gardenia remyi | Rubiaceae | U.S.A. (HI).
C | 5 | R1 | Nohoanu | Geranium hanaense | Geraniaceae | U.S.A. (HI).
C | 8 | R1 | Nohoanu | Geranium hillebrandii | Geraniaceae | U.S.A. (HI).
C | 2 | R1 | Nohoanu | Geranium kauaiense | Geraniaceae | U.S.A. (HI).
C | 11 | R6 | Alice-flower, wonderland | Gilia caespitosa | Polemoniaceae | U.S.A. (UT).
C | 5 | R4 | No common name | Gonocalyx concolor | Ericaceae | U.S.A. (PR).
PE | N/A | R1 | Stickseed, showy | Hackelia venusta | Boraginaceae | U.S.A. (WA).
C | 5 | R1 | Kampuaàa | Hedyotis fluviatilis | Rubiaceae | U.S.A. (HI).
C | 5 | R4 | Sunflower, whorled | Helianthus verticillatus | Asteraceae | U.S.A. (AL, GA, TN).
C | 5 | R2 | Rose-mallow, Neches River | Hibiscus dasycalyx | Malvaceae | U.S.A. (TX).
C | 6 | R4 | Indigo, Florida | Indigofera mucronata keyensis | Fabaceae | U.S.A. (FL).
C | 3 | R1 | hè | Joinvillea ascendens ssp. ascendens | Joinvilleaceae | U.S.A. (HI).
C | 5 | R1 | Hulumoa | Korthalsella degeneri | Viscaceae | U.S.A. (HI).
C | 5 | R1 | Kamakahala | Labordia helleri | Loganiaceae | U.S.A. (HI).
C | 5 | R1 | Kamakahala | Labordia pumila | Loganiaceae | U.S.A. (HI).
C | 5 | R1 | No common name | Lagenifera erici | Asteraceae | U.S.A. (HI).
C | 5 | R1 | No common name | Lagenifera helenae | Asteraceae | U.S.A. (HI).
C | 5 | R4 | Gladecress, [unnamed] | Leavenworthia crassa | Brassicaceae | U.S.A. (AL).
C | 2 | R2 | Gladecress, Texas golden | Leavenworthia texana | Brassicaceae | U.S.A (TX).
C* | 2 | R1 | Peppergrass, Slick spot | Lepidium papilliferum | Brassicaceae | U.S.A. (ID).
C | 5 | R4 | Bladderpod, Short's | Lesquerella globosa | Brassicaceae | U.S.A. (IN, KY, TN).
C | 5 | R1 | Bladderpod, White Bluffs | Lesquerella tuplashensis | Brassicaceae | U.S.A. (WA).
PE | 3 | R1 | Meadowfoam, large-flowered wooly | Limnanthes floccosa grandiflora | Limnanthaceae | U.S.A. (OR).
C | 2 | R4 | Flax, sand | Linum arenicola | Linaceae | U.S.A. (FL).
C | 3 | R4 | Flax, Carter's small-flowered | Linum carteri carteri | Linaceae | U.S.A. (FL).
PE | 2 | R1 | Lomatium Cook's | Lomatium cookii | Apiaceae | U.S.A. (OR).
C | 5 | R1 | Makanoe lehua | Lysimachia daphnoides | Primulaceae | U.S.A. (HI).
C | 5 | R1 | Alani | Melicope christophersenii | Rutaceae | U.S.A. (HI).
C | 2 | R1 | Alani | Melicope degeneri | Rutaceae | U.S.A. (HI).
C | 2 | R1 | Alani | Melicope hiiakae | Rutaceae | U.S.A. (HI).
C | 2 | R1 | Alani | Melicope makahae | Rutaceae | U.S.A. (HI).
C | 2 | R1 | Alani | Melicope paniculata | Rutaceae | U.S.A. (HI).
C | 5 | R1 | Alani | Melicope puberula | Rutaceae | U.S.A. (HI).
C | 5 | R1 | Kolea | Myrsine fosbergii | Myrsinaceae | U.S.A. (HI).
C | 2 | R1 | Kolea | Myrsine mezii | Myrsinaceae | U.S.A. (HI).
C | 5 | R1 | Kolea | Myrsine vaccinioides | Myrsinaceae | U.S.A. (HI).
C | 8 | R5 | Asphodel, bog | Narthecium americanum | Liliaceae | U.S.A. (DE, NJ, NC, NY, SC).
PE | 1 | R1 | No common name | Nesogenes rotensis | Verbenaceae | U.S.A. (MP).
C | 5 | R1 | `Aiea | Nothocestrum latifolium | Solanaceae | U.S.A. (HI).
C | 2 | R1 | Holei | Ochrosia haleakalae | Apocynaceae | U.S.A. (HI).
C | 5 | R4 | Cactus, Florida semaphore | Opuntia corallicola | Cactaceae | U.S.A. (FL).
PE | 2 | R1 | No common name | Osmoxylon mariannense | Araliaceae | U.S.A. (MP).
C | 5 | R5 | Panic grass, Hirsts' | Panicum hirstii | Poaceae | U.S.A. (DE, GA, NC, NJ).
C | 11 | R2 | Whitlow-wort, bushy | Paronychia congesta | Caryophyllaceae | U.S.A. (TX).
C | 6 | R2 | Cactus, Fickeisen plains | Pediocactus peeblesianus fickeiseniae | Cactaceae | U.S.A. (AZ).
C | 5 | R6 | Beardtongue, Parachute | Penstemon debilis | Scrophulariaceae | U.S.A. (CO).
C | 5 | R6 | Beardtongue, Graham | Penstemon grahamii | Scrophulariaceae | U.S.A. (CO, UT).
C* | 6 | R6 | Beardtongue, White River | Penstemon scariosus albifluvis | Scrophulariaceae | U.S.A. (CO, UT).
C | 2 | R1 | `Ala 'ala wai nui | Peperomia subpetiolata | Piperaceae | U.S.A. (HI).
C | 11 | R6 | Phacelia, DeBeque | Phacelia submutica | Hydrophyllaceae | U.S.A. (CO).
C | 2 | R1 | No common name | Phyllostegia bracteata | Lamiaceae | U.S.A. (HI).
C | 5 | R1 | No common name | Phyllostegia floribunda | Lamiaceae | U.S.A. (HI)
C | 2 | R1 | No common name | Phyllostegia hispida | Lamiaceae | U.S.A. (HI).
C | 5 | R1 | Ho'awa | Pittosporum napaliense | Pittosporaceae | U.S.A. (HI).
C | 5 | R4 | Orchid, white fringeless | Platanthera integrilabia | Orchidaceae | U.S.A. (AL, GA, KY, MS, NC, SC, TN, VA).
C | 6 | R1 | No common name | Platydesma cornuta ssp. cornuta | Rutaceae | U.S.A. (HI).
C | 6 | R1 | No common name | Platydesma cornuta ssp. decurrens | Rutaceae | U.S.A. (HI).
C | 2 | R1 | No common name | Platydesma remyi | Rutaceae | U.S.A. (HI).
C | 5 | R1 | Pilo kea lau li'i | Platydesma rostrata | Rutaceae | U.S.A. (HI).
C | 5 | R1 | Hala pepe | Pleomele fernaldii | Agavaceae | U.S.A. (HI).
C | 5 | R1 | Hala pepe | Pleomele forbesii | Agavaceae | U.S.A. (HI).
PE | 2 | R1 | Polygonum, Scotts Valley | Polygonum hickmanii | Polygonaceae | U.S.A. (CA).
C | 5 | R1 | Lo'ulu,(=Na'ena'e) | Pritchardia hardyi | Asteraceae | U.S.A. (HI).
C | 6 | R1 | `Ena'ena | Pseudognaphalium (Formerly Gnaphalium) sandwicensium molokaiense | Asteraceae | U.S.A. (HI).
C | 2 | R1 | Kopiko | Psychotria grandiflora | Rubiaceae | U.S.A. (HI).
C | 3 | R1 | Kopiko | Psychotria hexandra oahuensis | Rubiaceae | U.S.A. (HI).
C | 2 | R1 | Kopiko | Psychotria hobdyi | Rubiaceae | U.S.A. (HI).
C | 5 | R1 | Kaulu | Pteralyxia macrocarpa | Apocynaceae | U.S.A. (HI).
C | 5 | R1 | Makou | Ranunculus hawaiensis | Ranunculaceae | U.S.A. (HI).
C | 2 | R1 | Makou | Ranunculus mauiensis | Ranunculaceae | U.S.A. (HI).
C * | 2 | R1 | Cress, Tahoe yellow | Rorippa subumbellata | Brassicaceae | U.S.A. (CA, NV).
C | 2 | R1 | No common name | Schiedea attenuata | Caryophyllaceae | U.S.A. (HI).
C | 2 | R1 | Ma'oli'oli | Schiedea pubescens | Caryophyllaceae | U.S.A. (HI).
C | 2 | R1 | No common name | Schiedea salicaria | Caryophyllaceae | U.S.A. (HI).
C | 5 | R1 | Stonecrop, Red Mountain | Sedum eastwoodiae | Crassulaceae | U.S.A. (CA).
C | 5 | R1 | `Anunu | Sicyos macrophyllus | Cucurbitaceae | U.S.A. (HI).
C | 9 | R1 | Checkerbloom, Parish's | Sidalcea hickmanii ssp. parishii | Malvaceae | U.S.A. (CA).
C | 5 | R1 | Popolo | Solanum nelsonii | Solanaceae | U.S.A. (HI).
C | 2 | R1 | No common name | Stenogyne cranwelliae | Lamiaceae | U.S.A. (HI).
C | 2 | R1 | No common name | Stenogyne kealiae | Lamiaceae | U.S.A. (HI).
PE | 2 | R1 | No common name | Tabernaemontana rotensis | Apocynaceae | U.S.A. (GU, MP).
PT | 1 | R6 | Yellowhead, desert | Yermo xanthocephalus | Asteraceae | U.S.A. (WY).
C | 2 | R1 | A'e | Zanthoxylum oahuense | Rutaceae | U.S.A. (HI).
Ferns and Allies
C | 11 | R1 | Moonwort, slender | Botrychium lineare | Ophioglossaceae | U.S.A. (CA, CO, ID, MT, OR, WA), Canada.
C | 6 | R1 | No common name | Cyclosorus boydiae boydiae | Thelypteridaceae | U.S.A. (HI).
C | 6 | R1 | No common name | Cyclosorus boydiae kipahuluensis | Thelypteridaceae | U.S.A. (HI).
C | 2 | R1 | No common name | Doryopteris takeuchii | Dryopteridaceae | U.S.A. (HI).
C | 2 | R1 | No common name | Dryopteris tenebrosa | Dryopteridaceae | U.S.A. (HI).
C | 2 | R1 | No common name | Microlepia mauiensis | Dennstaedtiaceae | U.S.A. (HI).
C | 2 | R1 | Wawae'iole | Phlegmariurus stemmermanniae | Lycopodiaceae | U.S.A. (HI).

Table 2.—Former Candidate and Former Proposed Animals and Plants
Status: Code | Status: Expl. | Status: Lead region | Common name | Scientific name | Family | Historic range
Mammals
Rc | A | R6 | Fox, swift (U.S. population) | Vulpes velox | Canidae | U.S.A. (CO, IA, KS, MN, MT, ND, NE, NM, OK, SD, TX, WY), Canada.
T | L | R6 | Lynx, Canada | Lynx canadensis | Felidae | U.S.A. (AK, CO, ID, ME, MI, MN, MT, ND, NH, NY, OR, PA, UT, VT, WA, WI, WY), Canada, circumboreal.
E | L | R1 | Rabbit, riparian brush | Sylvilagus bachmani riparius | Leporidae | U.S.A. (CA).
E | L | R1 | Sheep, bighorn | Ovis canadensis californiana | Bovidae | U.S.A. (Western conterminous states), Canada (southwestern).
T | L | R1 | Squirrel, northern Idaho ground | Spermophilus brunneus brunneus | Sciuridae | U.S.A. (ID).
E | L | R1 | Woodrat, riparian | Neotoma fuscipes riparia | Muridae | U.S.A. (CA).
Birds
E | L | R7 | Albatross, short-tailed | Phoebastria albatrus | Diomedeidae | North Pacific Ocean and Bering Sea, Canada, China, Japan, Mexico, Russia, Taiwan, U.S.A. (AK, CA, HI, OR, WA).
E | L | R1 | Elepaio, Oahu | Chasiempis sandwichensis ibidus | Musicapidae | U.S.A. (HI).
Amphibians
E | L | R1 | Salamander, California tiger (Santa Barbara population) | Ambystoma californiense | Ambystomatidae | U.S.A. (CA).
Fishes
Rc | A | R6 | Chub, sicklefin | Macrhybopsis meeki | Cyprinidae | U.S.A. (AR, IA, IL, KS, KY, LA, MO, MS, MT, NE, ND, SD, TN).
Rc | A | R6 | Chub, sturgeon | Macrhybopsis gelida | Cyprinidae | U.S.A. (AR, IA, IL, KY, KS, LA, MO, MS, MT, NE, ND, SD, TN, WY).
T | L | R2 | Minnow, Devils River | Dionda diaboli | Cyprinidae | U.S.A. (TX), Mexico.
Rp | A | R2 | Pupfish, Pecos | Cyprinodon pecosensis | Cyprinodontidae | U.S.A. (NM, TX).
E | L | R5 | Salmon, Atlantic (Gulf of Maine population) | Salmo salar | Salmonidae | U.S.A., Canada, Greenland, western Europe.
E | L | R4 | Sturgeon, Alabama | Scaphirhynchus suttkusi | Acipenseridae | U.S.A. (AL, MS).
T | L | R1 | Sucker, Santa Ana | Catostomus santaanae | Catostoidae | U.S.A. (CA).
T | L | R1 | Trout, bull | Salvelinus confluentus | Salmonidae | U.S.A. (Pacific NW), Canada (NW Territories).
Rc | A | R1 | Trout, McCloud R redband | Oncorhynchus mykiss ssp | Salmonidae | U.S.A. (CA).
Clams
E | L | R3 | Mussel, scaleshell | Leptodea leptodon | Unionidae | U.S.A. (AL, AR, IL, IN, IA, KY, MN, MO, OH, OK, SD, TN, WI).
Snails
E | L | R4 | Campeloma, slender | Campeloma decampi | Viviparidae | U.S.A. (AL).
E | L | R4 | Snail, armored | Pyrgulopsis pachyta | Hydrobiidae | U.S.A. (AL).
T | L | R1 | Snail, Newcomb’s | Erinna newcombi | Lymnaeidae | U.S.A. (HI).
Rc | A | R2 | Talussnail, Wet Canyon | Sonorella macrophallus | Helminthoglyptida | U.S.A. (AZ).
Insects
E | L | R1 | Butterfly, Fender's blue | Icaricia icarioides fenderi | Lycaenidae | U.S.A. (OR).
E | L | R2 | Ground beetle, [unnamed] | Rhadine infernalis | Carabidae | U.S.A. (TX).
E | L | R2 | Ground beetle, [unnamed] | Rhadine exilis | Carabidae | U.S.A. (TX).
E | L | R2 | Mold beetle, Helotes | Batrisodes venyivi | Pselaphidae | U.S.A. (TX).
E | L | R1 | Moth, Blackburn's sphinx | Manduca blackburni | Sphingidae | U.S.A. (HI).
E | L | R1 | Tiger beetle, Ohlone | Cicindela ohlone | Cicindelidae | U.S.A. (CA).
Arachnids
E | L | R2 | Harvestman, Robber Baron Cave | Texella cokendolpheri | Phalangodidae | U.S.A. (TX).
E | L | R2 | Spider, Government Canyon cave | Neoleptoneta microps | Leptonetidae | U.S.A. (TX).
E | L | R1 | Spider, Kauai cave wolf or pe'e pe'e maka 'ole | Adelocosa anops | Lycosidae | U.S.A. (HI).
E | L | R2 | Spider, Madla's cave | Cicurina madla | Dictynidae | U.S.A. (TX).
E | L | R2 | Spider, Robber Baron cave | Cicurina baronia | Dictynidae | U.S.A. (TX).
E | L | R2 | Spider, Vesper cave | Cicurina vespera | Dictynidae | U.S.A. (TX).
E | L | R2 | Spider, [unnamed] | Cicurina venii | Dictynidae | U.S.A. (TX).
Crustaceans
E | L | R1 | Amphipod, Kauai cave | Spelaeorchestia koloana | Talitridae | U.S.A. (HI).
Flowering Plants
Rc | A | R2 | Onion, Goodding's | Allium gooddingii | Liliaceae | U.S.A. (AZ, NM).
Rc | A | R6 | Rock-cress, small | Arabis pusilla | Brassicaceae | U.S.A. (WY).
E | L | R6 | Milk-vetch, Shivwitz | Astragalus ampullarioides | Fabaceae | U.S.A. (UT).
T | L | R6 | Milk-vetch, Deseret | Astragalus desereticus | Fabaceae | U.S.A. (UT).
E | L | R6 | Milk-vetch, Holmgren | Astragalus holmgreniorum | Fabaceae | U.S.A. (AZ, UT).
E | L | R1 | Milk-vetch, Ventura Marsh | Astragalus pycnostachyus lanosissimus | Fabaceae | U.S.A. (CA).
Rc | A | R1 | Lily, umpqua mariposa | Calochortus umpquaensis | Liliaceae | U.S.A. (OR).
Rc | A | R2 | Bugbane, Arizona | Cimicifuga arizonica | Ranunculaceae | U.S.A. (AZ).
E | L | R1 | Thistle, La Graciosa | Cirsium loncholepis | >Asteraceae | U.S.A. (CA).
Rc | N | R1 | Haha | Cyanea pseudofauriei | Campanulaceae | U.S.A. (HI).
Rc | A | R1 | pu'uka'a | Cyperus odoratus | Cyperaceae | U.S.A. (HI).
E | L | R1 | Larkspur, Baker's | Delphinium bakeri | Ranunculaceae | U.S.A. (CA).
E | L | R1 | Larkspur, yellow | Delphinium luteum | Ranunculaceae | U.S.A. (CA).
E | L | R1 | Daisy, Willamette | Erigeron decumbens decumbens | Asteraceae | U.S.A. (OR).
E | L | R1 | Yerba santa, Lompoc | Eriodictyon capitatum | Hydrophyllaceae | U.S.A. (CA).
Rc | A | R1 | Buckwheat, Sulphur Springs | Eriogonum argophyllum | Polygonaceae | U.S.A. (NV).
E | L | R1 | Fritillary, Gentner's | Fritillaria gentneri | Liliaceae | U.S.A. (OR).
T | L | R6 | Butterfly plant, Colorado | Gaura neomexicana coloradensis | Onagraceae | U.S.A. (CO, NE, WY).
T | L | R2 | Sunflower, Pecos | Helianthus paradoxus | Asteraceae | U.S.A. (NM, TX).
E | L | R1 | Tarplant, Gaviota | Hemizonia increscens villosa | Asteraceae | U.S.A. (CA).
T | L | R1 | Tarplant, Santa Cruz | Holocarpha macradenia | Asteraceae | U.S.A. (CA).
Rc | A | R1 | Lathyrus, two-flowered | Lathyrus biflorus | Fabaceae | U.S.A. (CA).
E | L | R2 | Bladderpod, Zapata | Lesquerella thamnophila | Brassicaceae | U.S.A. (TX).
E | L | R1 | Lupine, Nipomo Mesa | Lupinus nipomensis | Fabaceae | U.S.A. (CA).
T | L | R1 | Lupine, Kincaid's | Lupinus sulphureus kincaidii | Fabaceae | U.S.A. (OR, WA).
Rc | X | R1 |  | Lysimachia venosa | Primulaceae | U.S.A. (HI).
Rc | X | R1 | Alani | Melicope macropus | Rutaceae | U.S.A. (HI).
Rc | A | R1 | Cholla, Blue Diamond | Opuntia whipplei multigeniculata | Cactaceae | U.S.A. (NV).
E | L | R1 | Phlox, Yreka | Phlox hirsuta | Polemoniaceae | U.S.A. (CA).
Rc | X | R1 |  | Phyllostegia helleri | Lamiaceae | U.S.A. (HI).
Rc | X | R1 |  | Phyllostegia imminuta | Lamiaceae | U.S.A. (HI).
E | L | R1 | Popcornflower, rough | Plagiobothrys hirtus | Boraginaceae | U.S.A. (OR).
E | L | R1 | Checker-mallow, Keck's | Sidalcea keckii | Malvaceae | U.S.A. (CA).
E | L | R1 | Checkermallow, Wenatchee Mountains | Sidalcea oregana calva | Malvaceae | U.S.A. (WA).
Rc | I | R1 | Catchfly, Red Mountain | Silene campanulata campanulata | Caryophyllaceae | U.S.A. (CA).
T | L | R1 | Catchfly, Spalding's | Silene spaldingii | Caryophyllaceae | U.S.A. (ID, MT, OR, WA).
E | L | R1 | Penny-cress, Kneeland Prairie | Thlaspi californicum | Brassicaceae | U.S.A. (CA).
Rc | A | R2 | Tickle-tongue, Shinner's | Zanthoxylum parvum | Rutaceae | U.S.A. (TX).

[FR Doc. 01-26982 Filed 10-29-01; 8:45 am]

BILLING CODE 4310-55-P